ENVIRONMENTAL PROTECTION AGENCY

40 CFR Part 63

[FRL-7005-6]

RIN 2060-AE79

National Emission Standards for Hazardous Air Pollutants: Reinforced Plastic Composites Production

AGENCY: Environmental Protection Agency (EPA).

ACTION: Proposed rule.

SUMMARY: This action proposes national emission standards for hazardous air pollutants (NESHAP) for new and existing reinforced plastic composites production facilities. The proposed standards regulate production and ancillary processes used to manufacture products with thermoset resins and gel coats. Reinforced plastic composites production facilities emit hazardous air pollutants (HAP), such as styrene, methyl methacrylate (MMA), and methylene chloride (dichloromethane). These HAP have adverse health effects including headache, fatigue, depression, irritation of skin, eyes, and mucous membranes. Methylene chloride has been classified as a probable human carcinogen. These proposed standards will implement section 112(d) of the Clean Air Act (CAA) by requiring all major sources in this category to meet HAP emission standards reflecting the application of the maximum achievable control technology (MACT). We estimate the proposed NESHAP would reduce nationwide emissions of HAP from these facilities by approximately 14,500 tons per year (tpy) (65 percent).

DATES: Comments. Submit comments on or before October 1, 2001.

Public Hearing. If anyone contacts the EPA requesting to speak at a public hearing by August 22, 2001, a public hearing will be held on September 4, 2001.

ADDRESSES: Comments. By U.S. Postal Service, send comments (in duplicate if possible) to: Air and Radiation Docket and Information Center (6102), Attention Docket Number A-94-52, U.S. EPA, 1200 Pennsylvania Avenue, NW., Washington, DC 20460. In person or by courier, deliver comments (in duplicate if possible) to: Air and Radiation Docket and Information Center (6102), Attention Docket Number A-94-52, U.S. EPA, 401 M Street, SW., Washington, DC 20460. We request a separate copy also be sent to the contact person listed below in the FOR FURTHER INFORMATION CONTACT section.

Public Hearing. If a public hearing is held, it will be held at EPA's Office of Administration Auditorium, Research Triangle Park, North Carolina.

Docket. Docket No. A-94-52 contains supporting information used in developing the standards. The docket is located at the U.S. EPA, 401 M Street, SW., Washington, DC 20460 in Room M-1500, Waterside Mall (ground floor), and may be inspected from 8:30 a.m. to 5:30 p.m., Monday through Friday, excluding legal holidays.

FOR FURTHER INFORMATION CONTACT: Keith Barnett, Organic Chemicals Group, Emission Standards Division (MD-13), U.S. EPA, Research Triangle Park, North Carolina 27711, (919) 541-5605, barnett.keith@epamail.epa.gov. For public hearing information, contact Maria Noell, Organic Chemicals Group, Emission Standards Division (MD-13), U.S. EPA, Research Triangle Park, North Carolina 27711, (919) 541-5607.

SUPPLEMENTARY INFORMATION: Comments. Comments and data may be submitted by electronic mail (e-mail) to: a-and-r-docket@epa.gov. Electronic comments must be submitted either as an ASCII file to avoid the use of special characters and encryption problems or on disks in WordPerfect™ version 5.1, 6.1 or Corel 8 file format. All comments and data submitted in electronic form must note the docket number: A-94-52. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Attention: Keith Barnett, c/o OAQPS Document Control Officer (Room 740B), U.S. EPA, 411 W. Chapel Hill Street, Durham, NC 27701. The EPA will disclose information identified as CBI only to the extent allowed by the procedures set forth in 40 CFR part 2. If no claim of confidentiality accompanies a submission when it is received by the EPA, the information may be made available to the public without further notice to the commenter.

Public Hearing. Persons interested in presenting oral testimony or inquiring as to whether a hearing is to be held should contact Maria Noell, Organic Chemicals Group, Emission Standards Division (MD-13), U.S. EPA, Research Triangle Park, North Carolina 27711, (919) 541-5607 at least 2 days in advance of the public hearing. Persons interested in attending the public hearing must also call Maria Noell to verify the time, date, and location of the hearing. The public hearing will provide interested parties the opportunity to present data, views, or arguments concerning these proposed emission standards.

Docket. The docket is an organized and complete file of the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket, excluding interagency review materials, will serve as the record in the case of judicial review. (See section 307(d)(7)(A) of the CAA.) The regulatory text and other materials related to this rulemaking are available for review in the docket or copies may be mailed on request from the Air Docket by calling (202) 260-7548. A reasonable fee may be charged for copying docket materials.

World Wide Web (WWW). In addition to being available in the docket, an electronic copy of the proposed NESHAP will also be available on the WWW through the Technology Transfer Network (TTN). Following signature, a copy of the proposed NESHAP will be posted on the TTN's policy and guidance page for newly proposed or promulgated rules http://www.epa.gov/ttn/oarpg. The TTN provides information and technology exchange in various areas of air pollution control. If more information regarding the TTN is needed, call the TTN HELP line at (919) 541-5384.

Regulated Entities. Categories and entities potentially regulated by this action include:

Category | NAICS code | SIC code | Examples of regulated entities
Industry | 325211 326122 325991 326191 | 2821 3084 3087 3088 | Reinforced plastic composites production facilities that manufacture and/or repair intermediate and/or final products using HAP containing thermoset resins and gel coats.
|  | 3089
| 327991 | 3281
| 327993 | 3296
| 332998 | 3431
| 33312 | 3531
| 33651 | 3531
| 335311 | 3612
| 335313 | 3613
| 335312 | 3621
| 33422 | 3663
| 336211 | 3711
| 336112 | 3711
| 336211 | 3713
| 33651 |
| 33653 | 3714
| 336399 | 3714
| 33612 | 3716
| 336213 | 3728
| 336413 | 3743
| 336214 | 3792
|  | 3999
Federal Government |  |  | Federally owned facilities that manufacture and/or repair intermediate and/or final products using HAP containing thermoset resins and gel coats.

This table is not intended to be exhaustive, but rather provides a guide for readers regarding entities likely to be regulated by this action. To determine whether your facility is regulated by this action, you should examine the applicability criteria in § 63.5785 of the proposed rule. If you have any questions regarding the applicability of this action to a particular entity, consult the person listed in the preceding FOR FURTHER INFORMATION CONTACT section.

Outline. The information presented in this preamble is organized as follows:

I. Introduction

A. What is the source of authority for development of NESHAP?

B. What criteria are used in the development of NESHAP?

C. What are the potential health effects of the HAP emitted by the reinforced plastic composites production industry?

D. How were the proposed NESHAP developed?

E. What processes and operations are included in the Reinforced Plastic Composites Production source category?

II. Summary of Proposed NESHAP

A. What source categories and subcategories are affected by this proposed rule?

B. What are the primary sources of HAP emissions and what are the emissions?

C. What is the affected source?

D. What are the proposed emission limits, operating limits, and other standards?

E. What is the MACT model point value and how is it used in these proposed NESHAP?

F. When would I need to comply with these proposed NESHAP?

G. What are the proposed options for demonstrating compliance?

H. What are the proposed testing and initial compliance requirements?

I. What are the proposed continuous compliance requirements?

J. What are the proposed notification, recordkeeping and reporting requirements?

III. Rationale for Proposed NESHAP

A. How did we determine the source category to regulate?

B. What pollutants are regulated under these proposed NESHAP?

C. What is the “affected source” and how did EPA select the operations to be regulated by these proposed NESHAP?

D. What is a new affected source?

E. How did we determine the MACT floor for existing sources?

F. How did we determine the MACT floor for new sources?

G. Did we consider options more stringent than the MACT floor?

H. Why are some reinforced plastic composites production operations not subject to these proposed NESHAP?

I. How did we select the proposed compliance dates for existing and new sources?

J. How did we select the form of these proposed NESHAP?

K. How did we select the test methods for determining compliance with the proposed NESHAP?

L. How did we determine the proposed monitoring and recordkeeping requirements?

M. How did we select the proposed notification and reporting requirements?

N. What are some of the areas where we are specifically soliciting comments?

IV. Summary of Environmental, Energy, and Economic Impacts

A. What facilities are affected by the proposed NESHAP?

B. What are the air quality impacts?

C. What are the water quality impacts?

D. What are the solid and hazardous waste impacts?

E. What are the energy impacts?

F. What are the cost impacts?

G. What are the economic impacts?

V. Relationship of Proposed NESHAP to Other Standards and Programs under the CAA

A. National Emission Standards for Closed Vent Systems, Control Devices, Recovery Devices, and Routing to a Fuel Gas System or a Process (40 CFR Part 63, Subpart SS)

B. Operating Permit Program

C. NESHAP for Plastic Parts and Products

VI. Administrative Requirements

A. Executive Order 12866, Regulatory Planning and Review

B. Paperwork Reduction Act

C. Executive Order 13132, Federalism

D. Executive Order 13175, Consultation and Coordination with Indian Tribal Governments

E. Unfunded Mandates Reform Act of 1995

F. Regulatory Flexibility Act (RFA), as amended by the Small Business Regulatory Enforcement Fairness Act of 1996 (SBREFA), 5 U.S.C. 601 et seq.

G. National Technology Transfer and Advancement Act

H. Executive Order 13045, Protection of Children from Environmental Health Risks and Safety Risks

I. Introduction

A. What Is the Source of Authority for Development of NESHAP?

Section 112 of the CAA requires us to list categories and subcategories of major sources and area sources of HAP and to establish NESHAP for the listed source categories and subcategories. Reinforced Plastic Composites Production (major sources only) was included on the initial list of source categories published on July 16, 1992 (57 FR 31576). Major sources of HAP are those that have the potential to emit greater than 10 tpy of any one HAP or 25 tpy of any combination of HAP.

B. What Criteria Are Used in the Development of NESHAP?

The CAA requires NESHAP to reflect the maximum degree of reduction in emissions of HAP that is achievable. This level of control is commonly referred to as the MACT.

The MACT floor is the minimum control level allowed for NESHAP. This concept appears in section 112(d)(3) of the CAA. For new sources, the MACT floor cannot be less stringent than the emission control that is achieved in practice by the best-controlled similar source. The MACT standards for existing sources can be less stringent than standards for new sources, but they cannot be less stringent than the average emission limitation achieved by the best-performing 12 percent of existing sources in the category or subcategory (or the best-performing 5 sources for categories or subcategories with fewer than 30 sources).

In developing MACT, we also consider control options that are more stringent than the floor. We may establish standards more stringent than the floor based on the consideration of cost of achieving the emissions reductions, any nonair quality health and environmental impacts, and energy requirements.

C. What Are the Potential Health Effects of the HAP Emitted by the Reinforced Plastic Composites Production Industry?

Today's proposed NESHAP protect air quality and promote the public health by reducing emissions of some of the HAP listed in section 112(b)(1) of the CAA.

The HAP emitted by the reinforced plastic composites production industry include, but are not limited to, approximately 20,000 tpy of styrene, 550 tpy of methyl methacrylate, and 1100 tpy of methylene chloride. Exposure to these compounds has been demonstrated to cause adverse health effects, including chronic health disorders (e.g., headache, fatigue, and depression) and acute health disorders (e.g., irritation of skin, eyes, and mucous membranes and decreased respiratory function). Methylene chloride has been classified as a probable human carcinogen and styrene as a possible human carcinogen. In general, these findings have only been shown with concentrations higher than those typically in the ambient air.

We do not have the type of current detailed data on each of the operations covered by today's proposed NESHAP (and the people living around the operations) necessary to conduct an analysis to determine the actual population exposures to the HAP emitted from these facilities and the potential for resultant health effects. Therefore, we do not know the extent to which the adverse health effects described above occur in the populations surrounding these operations. However, to the extent the adverse effects do occur, the proposed rule will reduce emissions and subsequent exposures.

1. Styrene

Acute (short-term) exposure to styrene in humans results in mucous membrane and eye irritation and gastrointestinal effects. Chronic (long-term) exposure to styrene in humans may cause effects on the central nervous system (CNS) such as headache, fatigue, weakness, depression, and hearing loss. There is limited evidence that occupational exposure to styrene is associated with an increased frequency of spontaneous abortions and decreased frequency of births and an increased risk of leukemia and lymphoma. The EPA considers this evidence on occupational exposure to styrene to be inconclusive. The International Agency for Research on Cancer has classified styrene as a Group 2B, possible human carcinogen. The EPA has not classified styrene with respect to carcinogenicity.

2. Methyl Methacrylate

Methyl methacrylate irritates the skin, eyes, and mucous membranes in humans. An allergic response to dermal exposure may develop. Respiratory effects following acute (short-term) exposure include chest tightness, dyspnea, coughing, wheezing, and reduced lung function. Neurological symptoms including headache, lethargy, lightheadedness, and a sensation of heaviness in the arms and legs have also been reported following acute exposure to MMA. Effects to the liver, kidney, brain, spleen, and bone marrow have been reported in chronic (long-term) animal studies of MMA inhalation. Fetal abnormalities have been reported in animals exposed to MMA by injection and inhalation. In several animal studies, no carcinogenic effects were observed. The EPA has classified MMA in Group E (not likely to be carcinogenic in humans).

3. Methylene Chloride

Acute (short-term) exposure to methylene chloride by inhalation affects the nervous system, causing decreased visual, auditory, and motor functions. These effects are reversible once exposure ceases. The effects of chronic (long-term) exposure to methylene chloride suggest that the CNS is a potential target in both humans and animals. Limited animal studies have reported developmental effects. Human data are inconclusive regarding methylene chloride and cancer. Animal studies have shown increases in liver and lung cancer and benign mammary gland tumors following the inhalation of methylene chloride. The EPA has classified methylene chloride as a Group B2, probable human carcinogen.

D. How Were the Proposed NESHAP Developed?

We started the development of the proposed NESHAP by sending information collection request (ICR) surveys to facilities with applicable standard industries classification (SIC) codes. In addition to these surveys, we consulted with numerous members of the reinforced plastic composites industry, representatives of industry trade associations, and material and equipment vendors in developing the proposed NESHAP.

We held a series of approximately 35 meetings and visited approximately 25 facilities over a period of 8 years. These meetings and site visits were held to keep stakeholders informed and to gather additional data and information on issues relevant to the proposed NESHAP. The stakeholders helped in data gathering, arranged site visits, identified issues and provided information to help resolve issues in the rulemaking process.

We identified the MACT floor control level with information obtained through survey responses, site visits, telephone contacts, and operating permits. We assessed control options more stringent than the MACT floor by identifying the level(s) and method(s) of control achieved by the best controlled sources in the industry and conducting analyses designed to determine the cost, economic, energy, and environmental impacts of implementing the more stringent control options.

E. What Processes and Operations Are Included in the Reinforced Plastic Composites Production Source Category?

The Reinforced Plastic Composites Production source category involves the production of plastic products from cross-linking resins, usually in combination with reinforcing materials and inorganic fillers. The production of products that do not contain reinforcing materials is also included in this category, as well as the production of intermediate compounds which are later used to make the final plastic products. These non-reinforced products were included because they are produced using the same types of resins, have similar emission characteristics and would use similar emission controls. This source category is limited to those resins which contain styrene, either by itself or with a combination of other monomers or solvents.

There are a wide variety of operations that use styrene-containing resins to make thermoset plastics. Such production operations include manual resin application, mechanical resin application, filament winding, gel coat application, compression/injection molding, resin transfer molding, centrifugal casting, continuous lamination/continuous casting, polymer casting, pultrusion, and sheet molding compound (SMC) manufacturing. There are also ancillary operations such as cleaning, mixing/bulk molding compound (BMC) manufacturing, and storage that occur in conjunction with these production operations. Many facilities will use multiple operations in the manufacturing of their product.

This category does not include facilities which repair previously manufactured reinforced plastic composites, but do not have any co-located reinforced plastic composite manufacturing operations. The reason is that we believe that repair operations that are co-located with manufacturing operations use the same materials as the manufacturing processes. Repair operations that are not co-located may use different materials and application techniques.

II. Summary of Proposed NESHAP

This preamble section discusses the proposed NESHAP as they apply to you, the owner or operator of a new or existing reinforced plastic composites production facility.

A. What Source Categories and Subcategories Are Affected by This Proposed Rule?

Today's proposed rule applies to the Reinforced Plastic Composites Production source category. We evaluated the use of subcategories based on size (i.e., tpy of HAP emitted). These subcategories played an important role in defining the new source MACT floors. However, the available data that we used to develop the MACT floor for existing sources do not show significant differences between larger-emitting versus smaller-emitting sources. Thus, we did not go through a separate analysis for each subcategory of existing sources.

B. What Are the Primary Sources of HAP Emissions and What Are the Emissions?

The primary source of HAP emissions from the Reinforced Plastic Composites Production source category is the evaporation of styrene and other organic liquid HAP contained in the resin during the application and/or curing of the resin. Since styrene participates in the curing reaction, not all of it is emitted. The HAP emissions also occur during ancillary operations such as cleaning, mixing/BMC manufacturing, and storage.

Total baseline HAP emissions from the Reinforced Plastic Composites Production source category are approximately 22,200 tpy. Emissions from spray lay-up and gel coating constitute approximately 56 percent and 19 percent of the total baseline emissions, respectively. The remaining HAP emissions are primarily from hand lay-up/bucket and tool application, compression molding/injection molding, filament winding, SMC manufacturing, and centrifugal casting.

C. What Is the Affected Source?

Under this proposed rule, the affected source would be the combination of all operations regulated under these standards at a reinforced plastic composites production facility. The following regulated operations are typically performed at reinforced plastic composites production facilities and are part of the affected source: open molding, closed molding, centrifugal casting, continuous lamination/continuous casting, polymer casting, pultrusion, SMC manufacturing, equipment cleaning, BMC/manufacturing/mixing, and storage of HAP containing materials.

D. What Are the Proposed Emission Limits, Operating Limits, and Other Standards?

We are proposing the requirements of these NESHAP in the form of emission limits (i.e., point value, mass rate, or percent reduction), operating limits, and work practice standards. Work practice standards include design, equipment, work practices, and operational standards.

In developing proposed requirements for reinforced plastic composites affected sources, we have provided an alternative format where possible. For example, a facility meeting a 95 percent emission reduction requirement for open molding processes can alternatively meet a point value. We have also provided alternatives for meeting the limits for continuous lamination and continuous casting processes.

We are proposing a threshold for existing sources to distinguish between sources that would meet the floor requirements, that are generally based on pollution prevention, and those that would have to meet a more stringent above-the-floor requirement based on 95 percent control of HAP emissions. For small businesses, the threshold is 250 tpy of combined HAP emissions for open molding, centrifugal casting, continuous lamination/casting, pultrusion, and SMC manufacturing. The definition of a small business for this source category ranges from 500 to 1000 employees. More specific information on the definition of a small business may be found in the discussion of the Regulatory Flexibility Act in the Administrative Requirements section of this preamble. For businesses that are not small businesses, the threshold is combined emissions of HAP of 100 tpy from the same operations.

For all open molding operations (i.e., corrosion-resistant, noncorrosion-resistant, tooling, and gel coat) and centrifugal casting (corrosion-resistant and noncorrosion-resistant) at existing sources below the threshold, and new sources with HAP emissions less than 100 tpy, you must comply with a HAP emission limit that is calculated for your facility using MACT model point value equations for each open molding and centrifugal casting operation. For open molding and centrifugal casting operations at new sources with HAP emissions equal to or greater than 100 tpy, and existing sources with HAP emissions equal to or greater than the applicable thresholds (i.e., 100 tpy for large businesses and 250 tpy for small businesses), we are proposing to require owners and operators to reduce emissions by 95 percent from these operations or comply with a corresponding HAP emission limit calculated using the MACT model point value equations.

We are proposing to require owners and operators of continuous lamination/continuous casting operations at existing sources below the above-the-floor applicability thresholds, and new sources with HAP emissions less than 100 tpy, to reduce emissions by 58 percent. Other new and existing sources must reduce emissions by 95 percent.

We are proposing to require owners and operators of pultrusion operations at existing sources below the above-the-floor thresholds, and new sources with HAP emissions less than 100 tpy, to reduce emissions by 60 percent. This reduction is based on applying a wet enclosure or using direct die injection to limit emissions. Other new and existing sources must reduce emissions by 95 percent.

We are proposing to require owners and operators at both new and existing sources using injection/compression molding operations to reduce HAP emissions through the use of a work practice, whereby only one charge per machine is uncovered, unwrapped, or exposed per mold cycle per compression/injection molding machine.

We are proposing to require owners and operators of sheet molding compound operations at existing sources below the above-the-floor thresholds, and new sources with HAP emissions less than 100 tpy, to reduce emissions by using a nylon film, or film with equal or lower permeability to styrene, to enclose their SMC operation. Other new and existing sources must reduce emissions by 95 percent.

We are proposing to require owners and operators of all new and existing reinforced plastic composites affected sources to use cleaners containing no HAP.

We are proposing to require owners and operators of resin mixing and bulk molding compound operations at existing sources below the above-the-floor applicability thresholds, and new sources with HAP emissions less than 100 tpy, to limit HAP emissions by covering mixers such that there are no visible gaps. For other new and existing sources, we are proposing to require that you reduce emissions from mixing and BMC manufacturing by 95 percent.

For existing sources that are subject to the above-the-floor control level of 95 percent HAP emission reduction, we examined an alternative, based on pollution prevention, that would be more effective than the requirements of the MACT floor for existing sources. However, we were unable to develop an acceptable alternative to include in the proposed standards that meets the statutory requirements of MACT. We are soliciting comment on a possible alternative.

We are proposing to require all owners and operators at any existing or new affected source to keep all organic HAP-containing storage vessels covered, except during the addition or removal of materials.

E. What Is the MACT Model Point Value and How Is It Used in These Proposed NESHAP?

The MACT model point value is a number calculated for each open molding operation and centrifugal casting operation and is a surrogate for emissions. The MACT model point value is a way to rank the relative performance of different resin and gel coat emissions reduction techniques. This approach allows you to create control strategies using different resin and gel coat emissions reduction techniques. The proposed standards provide equations to calculate MACT model point values based on HAP content and application method for each material that you use. These MACT model point values are then averaged and compared to limits in the proposed standards to determine if your open molding operations are in compliance.

The MACT model point values have units of pounds of HAP per ton of resin or gel coat applied. It is important to note that the MACT model point values are surrogates for emissions, and the MACT model point value equations are used only for determining compliance with the proposed Reinforced Plastic Composites Production NESHAP. The MACT model point value equations cannot be used in place of emission factor equations to demonstrate compliance with other regulations.

The MACT model point value equations only account for HAP content and application method. Other factors (including curing time, part thickness, and operator technique) also affect emissions, and these factors are not accounted for in the MACT model point value equations for reasons discussed in section III-E. Determining the HAP content of materials and the method of application is relatively simple, and these factors are the most significant in affecting emissions. More information on the development of this model is available in the docket.

F. When Would I Need To Comply With These Proposed NESHAP?

We are proposing that all existing sources comply within 3 years of publication of the promulgated NESHAP in the Federal Register. New affected sources that startup before the promulgated NESHAP are published in the Federal Register must comply no later than the effective date of the NESHAP, which will be the same as the publication date. New affected sources that startup after the promulgated NESHAP are published in the Federal Register must comply upon startup. Existing area sources that increase their emissions or their potential to emit such that they become a major source of HAP must be in compliance within 3 years of the date they become a major source. New area sources that become major sources of HAP must comply upon becoming a major source. All open molding and centrifugal casting operations that comply by meeting a specified point value on a 12-month rolling average will have 1 year from the compliance date to demonstrate compliance.

We are proposing to provide new and existing facilities 3 years to comply from the time their HAP emissions reach or exceed the applicability thresholds requiring the installation of add-on controls, if these HAP emissions increases occur after their initial compliance date.

G. What Are the Proposed Options for Demonstrating Compliance?

Today's proposed NESHAP provide several options for compliance. We are providing these options to afford industry the flexibility to decide which method is best suited for each particular situation.

1. Open Molding and Centrifugal Casting Operations

For open molding operations at existing and new sources, this proposal would allow you to choose to comply by meeting the individual MACT point value for each operation at your affected source, or by meeting the weighted average MACT point value for all open molding operations at your affected source. In addition, if you have any combination of manual resin application, mechanical resin application, filament winding, or centrifugal casting operations at your affected source, you could comply by meeting the MACT point value for any one of these operations and by using the same resin for all the other operations.

For open molding and centrifugal casting operations where the proposed rule would require you to meet a percent reduction, you could use an add-on control device to achieve the required reduction or you may choose to meet a MACT point value that corresponds to that particular operation's percent reduction.

2. Continuous Casting/Lamination Operations

For continuous casting/lamination operations at existing and new sources, we are proposing that you could demonstrate that each continuous casting line and each continuous lamination line meets the appropriate standard. Alternatively, you could average all your continuous casting and continuous lamination lines together, and demonstrate that they meet the appropriate standard. An additional alternative would be to capture your emissions from your wet-out area in a permanent total enclosure that meets EPA's criteria, as specified in Method 204 in appendix M of 40 CFR part 51, and vent these wet-out emissions through a closed vent system to a control device achieving 95 percent reduction of HAP emissions. Under this proposed rule, these alternatives could be used in combination to demonstrate compliance.

3. Pultrusion Operations

For existing and new pultrusion operations, under this proposed rule you could capture and vent your emissions to a control device that achieves the required percent reduction of HAP emissions. You could also elect to use direct die injection pultrusion machines with resin drip collection systems that meet the criteria specified. We are also proposing an additional alternative only available to existing sources: the use of a wet-area enclosure with a resin drip collection system. For both new and existing sources, you could use the available options in combination to achieve compliance under this proposed rule.

4. Ancillary Operations

For ancillary operations at all sources, such as cleaning, storage, and mixing/BMC operations at existing sources, the only option we are proposing is to comply with the specified work practice standards.

H. What Are the Testing and Initial Compliance Requirements?

We are proposing to require owners and operators of all affected sources which use a control device to demonstrate compliance to conduct an initial performance test using specified EPA test methods. The owner or operator would test at the inlet and outlet of the control device, and using these results, calculate a percent reduction.

We are also proposing to require owners and operators that use permanent total enclosures to conduct a design evaluation as specified by EPA Method 204. If your enclosure does not meet the requirements for a permanent total enclosure, you would need to test the enclosure using EPA Methods 204B through E to determine the capture efficiency.

Prior to the initial performance test, owners and operators of affected sources would be required to install the parameter monitoring equipment to be used to demonstrate compliance with the operating limits. During the initial performance test, the owners and operators would use the parameter monitoring equipment to establish operating parameter limits.

I. What Are the Continuous Compliance Requirements?

If you use an add-on control device, we are proposing that you monitor and record the operating parameters established during the initial performance test, and calculate average operating parameter values averaged over the period of time specified in these proposed NESHAP to demonstrate continuous compliance with the operating limits.

If you use the MACT point value system to maintain a point value less than or equal to the appropriate point value listed in today's proposed NESHAP, we are proposing to require that you calculate the point value one time if the resins or gel coats used in the operation remain the same, or if all the resins and gel coats used individually meet the required point values. You are required to calculate the point value on a 12-month rolling average each month if the resin or gel coat varies between operations or over time, and not all resins or gel coats taken individually meet the required point value.

If you are complying with work practice standards, we are proposing that you demonstrate compliance with the work practice standards in today's proposed NESHAP by performing the necessary work practices and by keeping a record certifying that you are in compliance with the work practices.

J. What Are the Proposed Notification, Reporting, and Recordkeeping Requirements?

We are proposing that you submit Initial Notification, Notification of Performance Tests, and Notification of Compliance Status reports by the specified dates in the proposed NESHAP, which may vary depending on whether the affected source is new or existing.

You would also need to submit semiannual compliance reports. If you take action that is inconsistent with your approved startup, shutdown, and malfunction (SSM) plan, then you would need to submit SSM reports within 2 days of starting such action, and within 7 days of ending such action.

We are proposing that you keep a copy of each notification and report, along with supporting documentation for 5 years. Of this time, the first 2 years must be on-site. You would need to keep records related to SSM, records of performance tests, and records for each continuous parameter monitoring system. Under this proposed rule, if you must comply with the work practice standards, you would also need to keep records certifying that you are in compliance with the work practices for 5 years. If you are use the MACT point value system to demonstrate compliance, you would need to keep all data, assumptions, and calculations used to determine your MACT point value. For new and existing continuous lamination/casting operations, you would also need to keep the following records when complying with the percent reduction or pound per ton requirements: All data, assumptions, and calculations used to determine the percent reduction and/or pounds per ton, as applicable; a brief description of the rationale for the assignment of an equation or factor to each formula; all data, assumptions, and calculations used to derive facility-specific emission estimations and factors; identification and rationale for the worst-case scenario; and documentation that the appropriate regulatory agency has approved all emission estimation equations and factors.

III. Rationale for Proposed NESHAP

A. How Did We Determine the Source Category To Regulate?

Reinforced Plastic Composites Production was included on the initial list of source categories published on July 16, 1992 (57 FR 31576). In establishing the source category list, we stated that we would refine category descriptions during the rulemaking process, if necessary, based on additional information available. We did not find it necessary to refine the source category description for Reinforced Plastic Composites Production. However, we did define a number of different process groupings in order to develop representative MACT floors as described in the section on MACT floor development.

B. What Pollutants Are Regulated Under These Proposed NESHAP?

The proposed NESHAP regulate total HAP rather than individual HAP compounds. Standards for total HAP simplify compliance and enforcement compared with standards for individual HAP compounds. Styrene is the HAP emitted in the largest magnitude. Other HAP emitted from reinforced plastic composites production facilities include MMA and methylene chloride.

C. What Is the “Affected Source” and How Did EPA Select the Operations To Be Regulated by These Proposed NESHAP?

To provide compliance flexibility, we defined the affected source as the combination of all reinforced plastic composites operations at a site. This broad source definition allows a manufacturer to determine compliance by averaging the HAP content of different products used throughout the facility, within certain defined operations, and to use different application techniques as needed to meet product quality specifications.

D. What Is a New Affected Source?

A new affected source is any reinforced plastic composites production facility that meets both of these criteria:

• It commenced construction after today's date; and

• It is at a site that does not presently contain any reinforced plastic composites production operations.

In section 112 of the CAA, the definition of new sources also includes stationary sources that commence reconstruction after the publication date of a proposed NESHAP. The Small Business Advocacy Review (SBAR) Panel recommended that we carefully review our definition of reconstruction for this industry. As defined in the General Provisions for 40 CFR part 63, “reconstruction” means the replacement of components of an affected, or a previously unaffected, stationary source to such an extent that: (1) the fixed capital cost of the new components exceeds 50 percent of the fixed capital cost that would be required to construct a comparable new source; and (2) it is technologically and economically feasible for the reconstructed source to meet the relevant standards (as established by the Administrator or a State) pursuant to section 112 of the CAA.

We envision that the types of changes that would typically occur at existing facilities would include replacement of spray equipment and molds. We do not believe that it would be technologically and economically feasible for an existing source making these types of changes to meet new source MACT. Thus, such changes do not meet the definition of reconstruction in the General Provisions and would not subject the sources making such changes to new source MACT.

E. How Did We Determine the MACT Floor for Existing Sources?

Several considerations underlie our MACT floor determinations. These considerations include: if/how the source category is to be subcategorized, how emissions types within the affected source are to be analyzed, and what are the best performing sources.

We identified 433 facilities that are major sources based on their potential to emit or have the potential to be major sources based on collocation with other HAP-emitting processes not part of this source category.

If technical differences in emissions characteristics, processes, control device applicability, or opportunities for pollution prevention exist within the source category, it may be appropriate to set separate floors based on these characteristics. In analyzing the available data on this source category, it was apparent that reinforced plastic composite facilities, as a whole, are extremely diverse in their emissions characteristics, control device applicability, and opportunities for pollution prevention. Therefore, we explored various ways of grouping the operations that may be present at these facilities.

For existing sources, it was apparent that almost all of the existing source floors would be based on pollution-prevention techniques such as lowering the HAP content in resins and gel coats, covering baths and containers holding resins, and using nonatomized spray applications. The extent and performance of pollution-prevention techniques are dependent on the specific operation. For this reason, the data were subdivided by specific operation, and a floor for each operation was developed.

Operations were segregated by several factors. The first was mold type (i.e., open, partially open, and closed). We also segregated operations by resin and gel coat application method; these include mechanical, manual, filament winding, and centrifugal casting. The type of mold and resin application method impacts the emission potential of a particular operation and also the effectiveness and applicability of different control techniques. We also segregated continuous operations such as pultrusion, continuous lamination, continuous casting, and the manufacture of sheet molding compound.

The final criteria used was product type. The required properties of the final product place certain constraints on the raw materials that can be used. This, in turn, influences the limits on levels of HAP in the raw materials. We identified several product criteria where the raw materials required to produce the product are dissimilar enough that a separate floor determination was required. The first is corrosion resistance. Reinforced plastic composites can generally be divided into two types—corrosion-resistant and noncorrosion-resistant products. Corrosion-resistant products require resins specifically formulated for corrosion-resistant applications. We also included high-strength applications in the corrosion-resistant grouping. These applications include products such as structural members and utility poles. These require resins with higher HAP contents than general purpose resins. The higher HAP contents for both corrosion-resistant and high-strength applications are necessary to produce a laminate with a greater concentration of styrene cross-linking. This higher level of cross-linking is necessary for either corrosion-resistance or high-strength.

We also separated gel coats from resins because these materials have significantly different functions in the final product and are formulated differently. Gel coats were further subdivided into clear, white and off-white, and other colors. Clear gel coats require significantly higher HAP content than pigmented gel coats, and are, therefore, unable to be formulated to the same HAP levels. White and off-white gel coats can be formulated to lower HAP contents on a weight-percent basis than other colors due to the fact that white pigments are heavier than other color pigments.

Class 1 fire and smoke rated products were separated from other products because their unique properties require a resin with a significantly higher HAP content than any other products. Separating Class 1 fire and smoke rated products was also one of the recommendations of the SBAR Panel.

Tooling resins and gel coats are used to make the molds that, in turn, are used to produce reinforced plastic parts. Molds must have different properties compared to the products they are used to produce. These include a high level of dimensional stability and resistance to heat compared to other reinforced plastic composites. Therefore, separate floors were developed for tooling resins and gel coats.

Once the data were subdivided by specific operation, the data were ranked by HAP emissions. Open molding and centrifugal casting operations were ranked based on a surrogate emission factor called a point value. As previously discussed, point values are based on resin and gel coat application method and HAP content, and provide a relative measure of emissions between operations with varying resin and gel coat HAP contents and application methods.

Other factors such as gel time, part thickness, application temperature, and operator technique also affect emissions. However, there are less data available to determine the effects of these factors in a production setting. In addition, some of these factors, such as part thickness, are inherent to the process and cannot be changed without changing the final product. For this reason, other factors are not included in the MACT model point value equations. The point value system was also developed to allow a facility to average different operations together to meet the applicable proposed standards. The ability to average is intended to provide additional compliance flexibility.

The individual operations were then ranked based on the point value (for open molding and centrifugal casting), percent of emission reduction (pultrusion, continuous lamination/casting, SMC manufacturing), covering open containers or exposed resin (storage, BMC manufacturing/mixing, injection/compression molding), or the use on non-HAP cleaning solvents (equipment cleaning). The median facility of the top 12 percent (or top 5 for operations with less than 30 sources) was then selected as representing the existing source floor.

For some of these operations, the available data were insufficient to perform a ranking. These were non-white pigmented gel coats, products with a Class 1 fire and smoke rating, and high-strength products.

We identified two facilities that produce products that require a Class 1 fire and smoke rating. Both facilities use a resin with a 60 percent HAP content. We chose use of this resin as the floor. From a 60 percent HAP resin, we calculated different point values for mechanical, manual, and filament winding resin application.

The data we used to set floors for pigmented gel coats were weighted averages reported by the facilities. This data included some information on colors, but not enough facilities reported color information to perform a meaningful ranking. Because of the predominance of white and off-white gel coats, these data are not representative for other colors. However, many facilities offer other colors. The pigments used in white and off-white gel coats are much denser than the pigments used in other colors. For that reason, weight percent HAP in white and off-white gel coats tends to be lower. A floor based on white and off-white gel coat HAP contents would preclude a facility using other colors.

Based on industry comments and the recommendation of the SBAR panel, we determined that a HAP content of 37 percent is the minimum that would provide acceptable gel coat performance for gel coats with colors other than white and off-white. In the absence of any other data, we adopted a 37 percent HAP as the floor for these gel coats. The 37 percent HAP content was converted to a point value using the appropriate point value equation. (See the final report of the SBAR Panel in the docket.) We request comments and supporting data on the appropriateness of 37 percent as a minimum HAP content for acceptable performance for gel coats with colors other than white and off-white.

The data supplied by industry did not differentiate products that require higher than typical strength properties. Therefore, we could not determine a floor with the facility data base. We discussed this issue as part of the SBAR Panel with several manufacturers that produce high-strength products. We also reviewed the requirements of South Coast Air Quality Management District Rule 1162. Rule 1162 specifically addresses high-strength products and contains the same requirements for high-strength products and corrosion-resistant products. As a result, we determined using the data for corrosion-resistant resins would be the most appropriate way to determine floors for high-strength products. Therefore, we are proposing the same floors for high-strength products and corrosion-resistant products. This is consistent with a recommendation of the SBAR Panel. We solicit comments on this approach.

There are many facilities that use multiple operations to produce a product. An example of this would be a facility producing corrosion-resistant tanks using filament winding to produce the main circular portion, mechanical resin application for the tank ends, and manual resin application to join the parts together. Industry representatives pointed out that the floors we had developed from the data base would potentially require a facility to use three different resins to produce a single product. This could potentially lead to problems of resin compatibility and product failures. The SBAR Panel report included a recommendation that we allow a facility to use the same resin for all processes.

As a result, we reexamined the floors for facilities with multiple processes. We determined that, based on the data available, the appropriate approach would be to have a provision in the proposed standards to allow a facility to select one operation, determine the resin they could use to meet the floor, and then use that same resin in all other operations. We did not have the data to determine what that operation should be in all cases, so we are not specifying a particular operation in the proposed standards. We assumed that a facility would select the operation that allows them to use the highest HAP content resin.

At the recommendation of the SBAR Panel, we also reexamined the floors for tooling resins. Several of the small entity representatives that advised the panel stated that the proposed floor for tooling resins will result in inferior quality tools. We believe that the current floor for tooling resins allows sufficient flexibility in resin HAP content as long as the resin can be applied with nonatomized spray technology. We are specifically soliciting comment on the applicability of nonatomized spray technology to tooling resins. Based on any comments, we intend to further examine the floor for tooling resins.

F. How Did We Determine the MACT Floor For New Sources?

In developing the floor for new sources, we developed two subcategories—sources with emissions of 100 tpy or above and sources with emissions below 100 tpy. Our reason for examining sources with emissions below 100 tpy separately is that such facilities are likely to have more difficulty maintaining and operating add-on controls than larger-emitting sources, and we are unsure of the performance of add-on controls at these facilities. Separating the data into large and small HAP-emitting sources for developing new source MACT floors was also one of the recommendations of the SBAR Panel.

In examining the facilities with emissions of 100 tpy or more, we found two facilities that control emissions from open molding and mixing by 95 percent overall. These facilities range in size from approximately 100 tpy to 1000 tpy of HAP emissions prior to the add-on control device. This level of control was chosen as the new source MACT floor for open molding and mixing at facilities with 100 tpy or more of uncontrolled emissions.

We also considered whether to evaluate the applicability of add-on controls to each of the different operations as was done in setting floors for existing sources. The two facilities that control emissions by 95 percent have operations including gel coat and mechanical resin application. The performance and cost of add-on controls is mainly a function of air flows and HAP concentration from the process. We have no data to suggest that the air flows and HAP concentrations present in other open molding production processes in this industry are not adequately represented by these two facilities.

The two facilities produce parts that range in size from that of bathtubs to truck caps. It is possible that larger size parts may require larger enclosures. We have not identified any facilities in the reinforced plastic composites industry where processes producing large parts, such as storage tanks and swimming pools, have applied 100 percent efficient capture systems. However, we have identified facilities using 100 percent efficient capture systems that apply coatings to large parts such as helicopters and ships. These coating operations have similar issues of large air flows (due to worker exposure concerns) and low outlet HAP emission concentrations. Based on this, we believe that it is technically feasible to apply 100 percent efficient capture systems to larger parts in the reinforced plastic composites industry.

We evaluated the applicability of the 95 percent control level as the new source floor for other operations. Centrifugal casting, continuous lamination/casting, pultrusion, and SMC manufacturing are similar in emissions characteristics to open molding. There are five facilities that have applied highly efficient add-on controls to these operations, with overall control efficiencies ranging from 90 to 95 percent. For this reason, we chose 95 percent control as the new source MACT floor for these operations at facilities with uncontrolled emissions of at least 100 tpy.

We also considered whether the new source MACT floor for the previously mentioned operations should be incorporation of the pollution-prevention measures that make up the existing source floors, combined with 95 percent control. This approach would actually result in a higher overall emissions reduction. In addition, incorporating the pollution prevention measures would reduce the potential for worker exposure in situations where processes have to be enclosed to meet the 95 percent control requirement.

However, we determined that selecting incorporation of pollution-prevention techniques in addition to the 95 percent control requirement as the new source floor was not appropriate because the facilities that incorporate 95 percent control, which we determined represent the best controlled facilities, do not also incorporate the best pollution prevention techniques. Therefore, combining the pollution-prevention requirements with the 95 percent control requirements would actually result in an overall control level that exceeds the levels at the best controlled facilities.

We are requesting comment on whether the new source floor for facilities that must meet the 95 percent control requirements should also incorporate the pollution-prevention requirements. We also request that commentors provide any available data on worker exposure that would help us quantify the benefits of incorporating pollution-prevention requirements with the 95 percent control requirements.

We are not proposing 95 percent control for closed molding, polymer casting, equipment cleaning, and resin storage, which have much lower emissions than the other types of operations. One of the facilities that sets the new source floor has a closed molding operation on site. This operation is not controlled through the use of an add-on control device. We attempted to identify other means of emissions reductions for these processes. For compression/injection molding, which is a type of closed molding, the only identified means of emission reduction was the work practice of uncovering one charge at a time. Therefore, this was chosen as the new source MACT floor for compression/injection molding. For polymer casting and resin transfer molding, we were not able to identify any means of reduction, either add-on controls or process modifications such as the use of low HAP resins. Thus, the new source MACT floor for these sources is no emissions reduction.

For equipment cleaning, the proposed new source floor is based on use of cleaners with no HAP. Of the 433 facilities that reported information on cleaning, 353 reported using no cleaning materials containing HAP. However, we are not regulating solvents used for cleaning cured resin or gel coat from application equipment because we know of no means of reducing HAP emissions. Cured resin or gel coat inside a gun is usually the result of operator error or an equipment failure. To clean cured resin and gel coat, an aggressive solvent is needed, and no low-HAP alternatives are available. The equipment is usually soaked in a covered bucket resulting in little evaporation of the solvent. The amount of solvent needed per year is determined by the size of the facility, degree of operator error, and equipment failure rates. Because operator error and equipment failure are hard to predict, we could determine no basis for an annual limit of solvent usage that would be achievable by all facilities. These proposed NESHAP, therefore, allow HAP-containing solvents only for cleaning cured resin and gel coat from the application equipment.

Over 250 facilities reported covering storage containers. We selected covering storage containers as the new source MACT floor for storage. We identified two facilities that vent the storage areas to a control device; however, we determined that the available data are insufficient to quantify additional emissions reductions that would result from controlling storage tanks and containers by 95 percent versus just covering the storage tanks and containers.

We calculated separate floors for facilities with less than 100 tpy of emissions from open molding, centrifugal casting continuous lamination/casting, pultrusion, SMC manufacturing, and BMC manufacturing/mixing. Though there are facilities with emissions below 100 tpy that have add-on controls, data were not available to substantiate their level of control. Therefore, we could not state that they achieved a level of control above that achieved by the pollution-prevention techniques, and thus, meet the definition of best controlled facilities. Also, smaller-emitting facilities tend to operate with fewer shifts than larger ones. The more frequent startups and shutdowns could tend to make it more difficult to maintain and operate add-on controls compared to larger-emitting facilities. For these reasons, the floor for new sources with less than 100 tpy of emissions is based on pollution-prevention techniques.

For these smaller-emitting facilities, we are proposing to set the new source MACT floor at the same level as the existing source MACT floor. This approach was recommended by the SBAR Panel. We believe the existing source MACT floor represents the greatest degree of emissions reduction that is achievable for small facilities under all circumstances. For new sources, the CAA requires the MACT floor to be based on the HAP emissions control achieved in practice by the best controlled similar source, as determined by the Administrator. The reinforced plastic composites industry is extraordinarily diverse. The products produced, even in the same operation, can include skylights, bathtubs, and parts for automobiles. Given this diversity, it is difficult to identify the “best controlled” source. Products manufactured by this industry generally must meet certain minimal strength and durability requirements. The HAP content of the resin is a factor in meeting such requirements. Use of a resin with a given HAP content may be the most stringent level of control possible for a particular process, while it may be possible to use a lower-HAP resin in a different process without jeopardizing the strength or durability of the product.

While some facilities are using lower-HAP materials and techniques than represented by the existing source MACT floor, we do not believe that these examples are universally applicable to all new reinforced plastic composites manufacturers. We have no data to precisely define the particular combination of requirements where these lower-emitting options can be used and still maintain the minimum required strength and durability requirements of these products. Consequently, we have set the proposed floor at the most stringent level that we have determined all sources emitting less than 100 tpy can achieve.

We did not find that the quantity of HAP emissions from the source had any effect on its ability to incorporate pollution-prevention technology, or on the effectiveness of these technologies. For that reason, we did not subdivide the data for existing sources where the floors are based mainly on pollution prevention.

During the SBAR Panel discussions, many of the small entity representatives expressed concern regarding the affordability and technical feasibility of add-on controls, and commented that they may be able to achieve similar HAP reductions using pollution-prevention measures, which tend to be less expensive. For example, if a facility could reduce its emissions by 50 percent each year for 3 years using the pollution-prevention alternative, it may be able to achieve reductions similar to thermal oxidation (nearly 90 percent versus 95 percent). The panel recommended that EPA explore with industry the possibility of a more stringent pollution-prevention option as an alternative to add-on controls. The panel believed that this option should be more stringent than the pollution-prevention technology present in the current existing source MACT floors.

We discussed with industry the possibility of a pollution-prevention control option in lieu of add-on controls. We were unable to develop an option that we believe meets the statutory requirements of MACT. However, we are soliciting comment on a possible pollution-prevention alternative to the 95 percent HAP reduction requirement. The specific information we are seeking is the maximum level of control that can be achieved by pollution prevention, and the time necessary to incorporate pollution-prevention techniques. The pollution-prevention techniques of which we are aware include low HAP resins and gel coats, nonatomized resin and gel coat applications, vapor suppressed resins, vacuum bagging, accelerated resin curing, and conversion of open molding processes to closed molding. We are soliciting information on other pollution-prevention techniques of which we are not aware, and information on the maximum level of emissions reductions achievable by these techniques.

The general concept of an alternative would be a facility that elects to use this option to submit notification to the appropriate permitting authority of their intent. The facility would then have to submit a plan to meet specific emissions reductions through pollution prevention. The plan would outline the techniques they intend to use, the research and testing required, and a schedule with annual milestones for achieving the goal.

In the next step, the facility would calculate an overall emission factor for all processes at the facility that are required to meet the 95 percent emission reduction.

Once a facility has determined a base year emission factor, they would be required to incorporate the pollution-prevention techniques outlined in the plan and make annual reports of progress. If a facility was unable to meet an interim milestone, they would be required to provide an updated plan within a specified time.

We are also soliciting comment on determination of a base year and baseline emission factor, and reporting requirements.

G. Did We Consider Options More Stringent Than the MACT Floor?

For existing sources, an above-the-floor control level was evaluated which was based on the new source floor for sources with emissions of 100 tpy or more. This above-the-floor control level would require 95 percent control of HAP emissions from all open molding, centrifugal casting, continuous lamination/casting, pultrusion, SMC manufacturing, and resin mixing/BMC manufacturing.

We then looked at several options. These were selecting the floor level of control as MACT for all facilities, selecting the above-the-floor level as MACT for all facilities, or choosing an alternative where facilities at or above a certain HAP emissions quantity would meet the above-the-floor level, and the rest would meet the floor. In looking at this third alternative, we also evaluated different HAP emission thresholds.

The option of having all facilities meet the above-the-floor level of control had an incremental cost of $4,300 per additional ton of HAP emission reduction. The economic analysis for this option indicated that 126 small businesses would be impacted at a level of 3 percent of sales or more, and there were 90 projected closures of small businesses. Because of the impacts on small businesses, we believe that the benefit of controlling all existing sources to this level is not commensurate with the economic impacts. Therefore, we are not proposing this alternative as MACT.

We then looked at a combination of the MACT floor for facilities below a specified HAP emissions quantity based on actual emissions prior to any add-on controls, and the above-the-floor level of control for larger-emitting facilities. We also examined the impacts from the standpoint of small businesses and their ability to obtain the capital to purchase pollution control equipment. We believe that the capital costs of the above-the-floor option for most small businesses would be prohibitive because they do not have the same access to capital as large businesses. The available data indicate that at a threshold of 250 tpy, none of the existing small businesses in the data base would be impacted significantly by the above-the-floor control level. For this reason, we determined MACT for small businesses to be the floor for facilities that emit less than 250 tpy of HAP, and the above-the-floor control level for facilities that emit 250 tpy or more. For large businesses, we determined MACT to be the floor for facilities that emit less than 100 tpy of HAP, and the above-the-floor control level for facilities that emit 100 tpy or more of HAP. The incorporation of the 250 tpy threshold for small businesses was one of the recommendations of the SBAR Panel, and the economic impacts of the selected option are reasonable.

Industry representatives independently developed costs for add-on controls and submitted them to the Agency. Their analysis is in the docket for this proposed rulemaking. The SBAR Panel recommended that we reconsider our estimates of costs for add-on controls in light of that study. The industry cost estimates are at least three times higher than our cost estimates. The major reason for these differences in cost are the design assumptions for the permanent total enclosures and the estimated air flows. Our cost estimates assume an inlet concentration of 100 parts per million by volume (ppmv). The industry study assumes lower concentrations that vary based on the specific facility. However, available test data for measured concentrations in the exhaust streams for reinforced plastic composites facilities range from 61 to 249 ppmv, with an average concentration of 120 and a median of 82. Based on this, we believe our 100 ppmv estimate is still reasonable, and we have decided not to revise our cost analysis at this time. We will review the industry's cost analysis in more depth following proposal, and make any appropriate changes based on our review and on comments we receive. We are soliciting comment on the cost and feasibility of add-on controls, data on design and operation of permanent total enclosures from this or similar industries, and data on typical exhaust HAP concentrations and air flows for reinforced plastic composite facilities.

We did not identify an above-the-floor option for the following operations: closed molding, polymer casting, and equipment cleaning. We were able to find no examples where any closed molding process was controlled using add-on controls. Therefore, we believe it is not technically and economically feasible to use add-on controls for closed molding processes. We do not believe it is technically feasible to use add-on controls for equipment cleaning operations. In any case, application of the floor level of control we are proposing would eliminate HAP-containing cleaners, except for cases where cured resin has to be removed from application equipment. This floor level of control would achieve close to 100 percent HAP emissions reductions.

For new sources, we examined an above-the-floor option of requiring all sources to meet the 95 percent control requirement for open molding, centrifugal casting, continuous lamination/casting, pultrusion, SMC manufacturing, and resin mixing/BMC manufacturing. We determined that, even if we could resolve the issues surrounding the performance of add-on control devices at the smaller-emitting sources, the incremental cost would be $15,000 per ton of additional HAP emissions reduction. For this reason, we chose the floor level of control as MACT for new sources.

We also considered an even more stringent above-the-floor control level for both existing and new sources. This control level would require facilities to use add-on controls to meet a 95 percent HAP emission reduction, and also require them to incorporate pollution-prevention techniques such as the use of low HAP resins and gel coats, and nonatomized resin application techniques. As previously discussed, the benefits of this approach would be that by incorporating the pollution-prevention measures in addition to the add-on control, the overall HAP emissions reduction would be increased. In addition, the potential for worker exposure in these situations would be reduced. However, we determined that this control level would result in approximately a 2 percent incremental HAP emissions reduction compared to the above-the-floor control level based on a 95 percent emissions reduction alone. The incremental cost of a control level that combines 95 percent HAP emissions reductions and pollution-prevention measures would be $36,900 per ton of additional HAP emissions reduction. Though there may be worker exposure benefits, we did not include this above-the-floor control level in this proposed rule. This possibility is still under consideration, and we are requesting comment. We also request that commentors provide any available data on worker exposure that would allow us to quantify the additional worker exposure benefits of incorporating pollution-prevention requirements with the 95 percent control requirements.

We did not identify an above-the-floor option for new sources for the following operations: Closed molding, polymer casting, and equipment cleaning for the same reasons as discussed above for existing sources.

We also examined an above-the-floor control option for existing sources based on pollution prevention. As was the case with the new source MACT floor, we are unable at this time to develop an alternative that we believe meets the statutory requirements of MACT. However, we are specifically soliciting comments on pollution-prevention techniques that could be used in lieu of the above-the-floor alternative as were discussed in the section on new source floors.

In addition to the previous discussion, we also evaluated non-air quality environmental impacts of these above-the-floors options. These impacts are discussed in section IV, Summary of Environmental, Energy, and Economic Impacts.

H. Why Are Some Reinforced Plastic Composites Production Operations Not Subject to These Proposed NESHAP?

These proposed NESHAP would not regulate mold sealing and release agents and mold stripping and cleaning solvents because we were unable to set MACT floors or determine MACT for these operations. In both cases, the information and data available to us suggest that mold maintenance practices, part shape and size, and production schedules determine emissions more than the HAP content of these materials. We do not have sufficient data to identify and prescribe work practices to reduce emissions from these operations. Therefore, these proposed NESHAP do not require emissions reductions for these materials.

For mold stripping and cleaning solvents, the amount of HAP used per unit of mold surface area applied depends on facility-specific mold maintenance practices and production requirements. These may include mold cycle time, how often the mold is used, and whether the mold is stored indoors or outdoors. The size of the part may also influence mold maintenance. We do not have sufficient data to identify those differences in production requirements or work practices that determine mold cleaning solvent usage. Therefore, we cannot identify a MACT floor or MACT.

I. How Did We Select the Proposed Compliance Dates for Existing and New Sources?

The CAA instructs EPA to establish a compliance date or dates for existing sources that will provide for compliance “as expeditiously as practicable, but in no event later than 3 years after the effective date.” For existing sources, we are proposing a compliance date 3 years from [DATE OF PUBLICATION OF THE FINAL RULE IN THE Federal Register].

Existing sources complying with the point value limits, which is a pollution-prevention approach, will need to make changes in application equipment and raw materials. We believe these sources need the full 3-year period provided by the CAA in order to evaluate the effect of these changes on their production processes, particularly because they may need to try out different resins. In addition, we believe that providing the maximum amount of allowable time will provide more sources the opportunity to change their raw materials and production techniques so that each resin and gel coat can meet the MACT specific to each process type rather than averaging the HAP content of resins across the source, thereby reducing the amount of records and paperwork needed to demonstrate initial and continuous compliance.

We are also proposing a 3-year compliance date for existing sources that must use add-on controls. We believe the full 3 years provided by the CAA is necessary for these sources as well to allow sufficient time for them to design, purchase, install, and work out operational problems that occur in trying to start up a new control device. In addition, if an existing source's emissions exceed one of the thresholds in the proposed rule that requires an add-on control device to comply, the 3-year period would provide sufficient time to evaluate whether there are pollution-prevention approaches that would get them below the threshold. We encourage the use of pollution-prevention as a control approach, and pollution prevention could be a significant cost savings over add-on controls for these sources.

The CAA instructs EPA to establish compliance dates for new sources that will provide for compliance upon start up, or the effective date of the final rule, whichever is later. These are the dates we are proposing in this proposed rule.

New and existing sources that comply by meeting point values on a 12-month rolling average must initiate collection of these data on the compliance date. New and existing sources that comply using add-on control devices must conduct the required performance testing within the 180-day time period as specified in the General Provisions to part 63.

We are also proposing to provide sources 3 years to comply from the time their HAP emissions reach or exceed the applicability thresholds requiring the installation of add-on controls, if these HAP emissions increase after their initial compliance date. We are providing this compliance time for sources under these circumstances because, as explained previously, we believe this is the necessary amount of time to get these control devices installed and operational.

J. How Did We Select the Form of These Proposed NESHAP?

We decided to offer several forms for complying with the proposed NESHAP. The purpose of multiple forms is to provide the flexibility to comply in the most cost-effective and efficient manner. We considered the following factors in selecting the form of the proposed NESHAP:

• The form should allow for multiple compliance techniques for the various types of facilities in the industry.

• The form should simplify compliance and ensure that the cost of compliance is not excessive.

• The form should be enforceable.

The form of these proposed NESHAP is based on a combination of emission limits (point values or percent reduction), equipment standards, and work practice standards.

1. Emission Limits Based on Point Values

These proposed NESHAP for open molding operations and centrifugal casting operations are based on point values which are in units of pounds of HAP per ton of resin used. The point value development has been previously described. This form was chosen over an absolute emission limit because it accurately determines the amount of pollution-prevention control a source has incorporated in its process, but does not require a facility to perform emission testing. This form also allows for averaging across open molding processes or across centrifugal casting processes. This means that a source has the option to over-control some operations, under-control others (relative to the limit for that individual process), but still meet the overall limit for such operations combined. This allows a source to have additional flexibility in meeting the proposed standards.

The emission limits for open molding and centrifugal casting for new sources are based on a percent reduction using add-on controls. However, we have provided an alternative standard for new sources also based on point values. These point values were determined by applying the required percent reduction requirement to the existing source MACT floors. The new source floor is based on a control efficiency, and the facilities that have these controls do not have examples of every possible type of open molding or centrifugal casting process. Therefore, we were not able to use the best-controlled sources to directly determine a point value that is equivalent to the 95 percent emissions reductions requirement for all operations. For operations where we could directly determine a point value equivalent, the approach of using existing source floors and applying 95 percent control is slightly more stringent. Therefore, we believe applying this approach to all open molding and centrifugal casting operations will produce a limit that is no less stringent, while providing opportunities for facilities to incorporate pollution prevention into their process, meet a percent reduction requirement less than 95 percent, but still meet the new source floor.

2. Emission Limits Based on Percent Reduction

The form of the standards for new open molding, centrifugal casting, SMC manufacturing, and resin/mixing/BMC manufacturing, and the standards for new and existing sources for pultrusion and SMC manufacturing are based on a percent reduction. These standards were all developed from facilities using add-on controls. It is possible to design a control device to meet a specified percent reduction. But based on the data available, it was not possible to determine an uncontrolled emission factor for open molding, centrifugal casting, SMC manufacturing, and mixing/BMC manufacturing that was generally applicable. Therefore, we could not develop a standard based on an emission factor. For continuous lamination/casting, we were able to develop an absolute emission limit based on the facilities that set the floor. These absolute emission limits are presented as alternatives to the percent reduction limits. In the case of pultrusion operations, there are alternative standards based on wet-area enclosures or direct die injection. Emission testing has determined that using this equipment as specified in the proposed rule will achieve the percent reductions specified in the NESHAP.

3. Emission Limits Based on Equipment/Work Practice Standards

Section 112(h) of the CAA states that “* * * if it is not feasible in the judgement of the Administrator to prescribe or enforce an emission standard for control of a hazardous air pollutant or pollutants, the Administrator may, in lieu thereof, promulgate a design, equipment, work practice, or operational standard, or combination thereof * * *” Section 112(h)(2) further defines the phrase “not feasible to prescribe or enforce an emission standard” as any situation in which “* * * a hazardous air pollutant or pollutants cannot be emitted through a conveyance designed and constructed to emit or capture such pollutant, * * * or the application of measurement methodology to a particular class of sources is not practicable due to technological and economic limitations.”

The emission limits for equipment cleaning and storage at new and existing sources are based on work practice and equipment standards. The reason for choosing work practice and equipment standards for storage is that storage areas may be located outside the rest of the production area, and in some cases, may be located outside the building. We do not believe it would be practicable due to economic limitations to test storage areas, and we do not have sufficient data to calculate an emission limit for the required work practice.

The standard for existing pultrusion facilities is based on the equipment standard combined with a work practice. We have proposed the standard as a percent reduction to allow the use of add-on controls. However, we do not believe it would be technologically or economically feasible to actually test facilities that choose to use a wet-area enclosure or direct die injection.

The limits for SMC and resin mixing/BMC at existing facilities are also based on work practices or equipment standards. We have no data to determine a specific percent reduction to the work practices for these operations. Therefore, we could not set a specific emission limit.

Cleaning operations may take place outside the regular production area. It would not be technologically or economically practicable to perform emission testing for cleaning operations.

4. Selection of Averaging Time for Demonstrating Compliance

As a reinforced plastic composites manufacturer, we are proposing that you could show compliance with the proposed NESHAP on a 12-month, rolling-average basis. A 12-month rolling average is determined at the end of each month by calculating a weighted average actual point value based on that month's resin and gel coat use, and a weighted average floor value based on that month's resin and gel coat use. The floor must also be calculated because the floors for different operations are not the same, and the weighted average floor may change based on the relative amounts of resin used in different operations. You would then sum the current month's weighted averages (floor and actual) with the monthly averages for each of the previous 11 months, divide the resulting sums by 12, and compare the two results. If the actual 12-month weighted average point value is less than or equal to the floor 12-month weighted average point value, you are in compliance.

We believe a 12-month averaging time provides a balance between operating flexibility and enforceability of the proposed standards. The 12-month period is sufficiently long so that you can identify potential compliance problems and change your operations in time to maintain compliance. The rolling-average aspect provides an enforceable emission limit 12 times per year.

Many reinforced plastic composites manufacturers already track material usage monthly to comply with State regulations and permit requirements, so we believe monthly tracking is consistent with current practice. Tracking on a more frequent basis would be unnecessarily burdensome for this particular industry. Reinforced plastic composites manufacturers need a 12-month rolling-average period to respond to both short-term variations in HAP content that are inherent in all chemical products, and to account for short-term needs for higher-HAP materials due to variations in product mix.

In order to calculate a 12-month rolling average, facilities must have 12 months of data. For this reason, we are proposing to allow facilities that elect to use a 12-month rolling average to demonstrate compliance 12 months and 30 days after the compliance date. This includes the time to generate 12 months of data to determine the average plus 30 days to perform the necessary calculations and generate the compliance report. If we were to establish a demonstration date prior to this, as a practical matter, facilities would have to actually achieve compliance prior to the compliance date. For reasons previously discussed, we believe it is reasonable and appropriate to give facilities the maximum time allowed by the CAA to comply.

K. How Did We Select the Test Methods for Determining Compliance With the Proposed NESHAP?

The proposed NESHAP have several options for achieving compliance. For open molding and centrifugal casting, this includes meeting a specified point value for existing sources, or a percent reduction or point value for new sources. For most other processes, you achieve compliance by using an enclosure and add-on control device to meet a percent reduction requirement or an absolute emission limit.

In order to calculate a point value, under this proposed rule, you must determine the HAP content of the raw material. The method to determine material HAP content is the use of the Material Safety Data Sheets (MSDS) or other product specification sheets provided by the material manufacturer. We chose not to propose requiring testing of the material. The data used to develop the standards were mainly based on MSDS; therefore, we believe it is reasonable that MSDS be used to determine compliance.

Under the proposed NESHAP, if you chose to use an enclosure and add-on control device, you would have to determine the capture efficiency of the enclosure and measure the HAP from the control device. To determine the capture efficiency of the enclosure, you would use EPA Method 204 (Criteria for and Verification of Permanent or Temporary Total Enclosure). If the enclosure meets the criteria in EPA Method 204 for a permanent total enclosure, then you could assume that its capture efficiency is 100 percent. If the enclosure is not a total enclosure, then you would build a total temporary enclosure around it that meets the definition of a total temporary enclosure in EPA Method 204. You would then have to measure emissions from both the control device and the total temporary enclosure and use the combined emissions to determine compliance.

To measure HAP, you would be able to use either EPA Method 18 (Measurement of Gaseous Organic Compound Emissions by Gas Chromatography) to measure the sum of individual species of HAP, or EPA Method 25A (Determination of Total Gaseous Organic Matter Concentration Using a Flame Ionization Analyzer) for total hydrocarbons (THC) as a surrogate for total HAP. The EPA Method 25A would allow you the flexibility to use a simpler method than EPA Method 18 which does not speciate HAP in cases where measuring THC is sufficient to demonstrate compliance. You could measure THC as a surrogate for total HAP if most of the THC emitted from an enclosure were HAP, such as styrene and MMA from resin and gel coat operations. For compliance determinations, the EPA will assume that all THC measured with EPA Method 25A are HAP.

We have not included in this proposed rule a test method for determining the effectiveness of vapor suppressed resins. A draft protocol entitled “Vapor Suppressant Effectiveness Test Protocol,” dated April 7, 1999, has been developed by industry and is available for review in the docket for this proposed rule. The draft protocol is insufficiently detailed for inclusion in this proposed rule. We are currently requesting additional details and soliciting comment on the test protocol or an alternate test protocol.

L. How Did We Determine the Proposed Monitoring and Recordkeeping Requirements?

Which monitoring and recordkeeping requirements you would meet depend on how you choose to comply with these proposed NESHAP. For each compliance option, the proposed monitoring and recordkeeping requirements are the minimum necessary to determine initial and ongoing compliance and are consistent with the General Provisions (40 CFR part 63, subpart A).

This section describes how to comply with emission limits based on point values, emission averaging provisions, equipment and work practice standards, and the emission limit for an add-on control device.

1. Compliance With Emission Limits Based on Point Values

For all operations subject to HAP content limits, we are proposing four tasks: monitor and record the HAP content of the material used, monitor and record the monthly consumption of the material, monitor and record which operations use the material, and record the computations to show that the weighted average point value over the past 12 months meets the proposed standards.

The SBAR Panel recommended that we look for alternatives to simplify reporting and recordkeeping. We have identified two alternatives we believe simplify the reporting and recordkeeping process. The first is that an owner and operator may use purchase records to determine monthly consumption. However, an owner and operator can track actual material flows to each process if desired. We believe this is reasonable because facilities have no financial incentive to keep significant inventories of raw material on hand, and we have no evidence that keeping large amounts of raw material on hand is a common practice. Therefore, purchases and actual consumption should track fairly closely. We are requiring that the owner and operator have a reasonable method to estimate the amounts of each resin used by a specific operation. The second alternative applies where all the materials used in an operation result in a point value that meets the emission limit, in which case, an owner and operator only need to record HAP content and the resulting point value and do not need to track monthly consumption of each individual material.

2. Compliance With Averaging Provisions

To comply with the averaging provisions for open molding operations and centrifugal casting operations, you must monitor and record HAP content as well as how use of the material is split between different operations, and you must record the computations needed to show compliance. You must use these data as well as the MACT model point value equations in the proposed NESHAP to calculate the point values in that operation for the past 12 months. Compliance is then determined relative to the allowable weighted average point value calculated for those operations for the past 12 months. Compliance would be calculated monthly, and monthly purchase records may be used to determine resin and gel coat use.

3. Compliance With Equipment and Work Practice Standards

The proposed NESHAP require resin and gel coat mixing containers to be fitted with covers that have no visible gaps. You will be required to inspect container covers each month to ensure the covers are in place and properly maintained. You must record the results of the inspections. The inspections should be sufficient to ensure that the covers are in place and properly maintained. We believe monthly inspections are a reasonable interval because the nature of failure in these pieces of equipment is likely due to wear and tear and not a sudden failure. Longer time periods between inspections, however, would allow a failure to go too long before being repaired.

The proposed NESHAP for production resin and tooling resin requires most manufacturers to use nonatomized resin application methods to comply. These methods include flowcoaters and pressure-fed resin rollers, among others. We could identify no parameters to monitor whether these methods are being used. Rather, compliance through the use of these methods would be determined during enforcement inspections. As long as flowcoaters, pressure-fed resin rollers, or other similar devices are installed and operated according to manufacturer's specifications, they will comply with the requirements to use nonatomized resin application methods.

4. Compliance for Sources Using Enclosures and Add-On Control Devices

The requirements for enclosures and add-on control devices in the proposed NESHAP are consistent with other air quality regulations that require capture and control of emissions. They are the minimum needed to demonstrate that the capture and control system is operated properly.

We are proposing that you must initially demonstrate compliance with the emission limit by demonstrating that the enclosure is a total enclosure or by also measuring the fugitive emissions that escape the enclosure. You would also need to measure the efficiency of the add-on control using EPA Method 25A for THC (as a surrogate for HAP) or EPA Method 18 for HAP. The EPA Method 18 measures individual HAP that you sum to calculate total HAP.

After the initial compliance test, we are proposing that you must monitor control device parameters to demonstrate that the control device continues to be operated as it was during the initial test. In the case of thermal oxidizers, you would need to monitor and record combustion temperature every 15 minutes both during and after the performance test. We are proposing that you must calculate the average temperature achieved during the test. After the test, you would need to maintain the average temperature at or above the temperature achieved during the performance test. Temperature monitors and recorders are standard features on thermal oxidizers. For other devices we are proposing that you must determine appropriate parameters to monitor and receive our approval to use these parameters.

M. How Did We Select the Proposed Notification and Reporting Requirements?

We believe that the proposed notices and reports are the minimum needed to determine if you are subject to the proposed NESHAP and whether you are in compliance. We are proposing that you must submit an initial notification stating that you are subject to the proposed NESHAP. After the compliance date for your facility, you would need to submit a notification of your compliance status. You would also need to submit semiannual reports of your compliance status. If you have an add-on control device and you become out of compliance, we are proposing that you must submit quarterly reports of your compliance status until we approve a request to return to semiannual reporting.

If your facility is a new source, we are proposing that you have additional preconstruction notification requirements. You would also have additional notification and reporting requirements if you use an add-on control device, including notifications and reports for the control device performance test. These proposed notification and reporting requirements are consistent with those specified in the General Provisions. We believe that these requirements are the minimum needed for us to determine compliance for sources with add-on control devices.

The SSM plan specified by the General Provisions will be required only for sources using an add-on control device and will apply only to the add-on control device. For operations not using a control device, the nature of the materials and equipment used to comply with the proposed Reinforced Plastic Composites Production NESHAP is such that malfunctions will not lead to excess emissions.

N. What Are Some of the Areas Where We Are Specifically Soliciting Comments?

The purpose of this section is to highlight particular issues of concern to the EPA or to other parties. We solicit comments on these issues, along with data to support the comments.

The proposed rule requires that certain new and existing sources control HAP emissions by 95 percent. In order to meet this requirement, facilities will likely have to capture 100 percent of their emissions from the affected processes and route these emissions to an add-on control device. We are soliciting data on the technical feasibility of permanent total enclosures (PTE); factors that affect the feasibility of PTE such as product size, operation grouping, and vent stream concentrations and air flow from the processes where capture systems are used; and interactions of these requirements with OSHA rules. For example, the feasibility of 100 percent emissions capture using PTE is based on data from two facilities. We believe that the process operations in these facilities are representative of the industry as a whole. However, we are soliciting comment on types of facilities that may not be able to apply PTE, along with data to support these comments. We solicit data on a facility's ability to maintain and operate add-on controls. We are especially interested in cost and design data from facilities in this industry that have successfully applied add-on controls. Data on control device inlet air flows and HAP concentrations combined with worker exposure monitoring data would be especially useful. We solicit data on typical operating hours in this industry, particularly in relation to the size of facilities and their operations (e.g., resin use or number of employees) since operating hours affect cost effectiveness and the number of start-ups and shutdowns.

The proposed rule sets different thresholds for existing source requirements at small versus large businesses, above which control of HAP emissions by 95 percent is required. The higher threshold for small businesses is based on concerns that it is more difficult for small businesses to raise the necessary capital to purchase add-on controls to comply with the 95 percent control level. We solicit comments on this conclusion, along with data on capital availability for large and small businesses and the impact of this threshold on large businesses. We solicit information and data on other factors to consider in evaluating control requirements more stringent than the MACT floor, including data on costs to the industry.

We believe that we have captured the full range of processes and products in our proposed operation groups. We request comments with supporting data on any processes or products that might not be adequately represented. Along these lines, we have specifically provided separate process groups for products with a Class I smoke and fire rating, and have defined high strength products as part of the corrosion resistant process group because of specific product requirements that require specialized raw materials. We solicit comments on this approach and data on any additional processes or products that have unique properties that may require separate process groupings for MACT floor development.

This proposed rule contains point value equations for open molding and centrifugal casting. We are soliciting comments on the data and assumptions used to develop MACT point value equations, and information on other methods or emission models that could be used to rank facilities for the purposes of setting MACT.

We also solicit information on the adequacy or necessity of the monitoring, recordkeeping, and reporting requirements in this proposed rule. We specifically solicit comments on the recordkeeping and reporting burden estimates set forth in the Paperwork Reduction Act discussion in this preamble and information on ways to minimize respondent burden.

IV. Summary of Environmental, Energy, and Economic Impacts

A. What Facilities Are Affected By the Proposed NESHAP?

There are approximately 433 existing facilities manufacturing reinforced plastic composites that are major sources and would be subject to the proposed NESHAP. The rate of growth for the reinforced plastic composites industry is estimated to be 84 new facilities over the next 5 years.

B. What Are the Air Quality Impacts?

The 1997 baseline HAP emissions from the reinforced plastic composites industry are approximately 22,200 tpy. The proposed NESHAP would reduce HAP from existing sources by 14,500 tpy, a reduction of 65 percent.

The proposed NESHAP would result in small increases in other air pollution emissions from combustion devices that will be installed in the next 5 years to comply with today's proposed rule. These increases result from both the combustion device directly, and estimated emissions that occur at electrical generating plants to generate the electricity necessary to operate the add-on controls and associated air handling equipment. These emissions are estimated to be 38 tpy of sulfur oxides (SOX), 69 tpy of nitrogen oxides (NOX), 125 tpy of carbon monoxide (CO), and 1.5 tpy of particulate matter (PM) emissions.

C. What Are the Water Quality Impacts?

We estimate that the proposed Reinforced Plastic Composites Production NESHAP will have no adverse water quality impacts. We do not expect anyone to comply by using add-on control devices or process modifications that would generate wastewater.

D. What Are the Solid and Hazardous Waste Impacts?

We estimate that the proposed NESHAP would decrease the amount of solid waste generated by the reinforced plastic composites industry by approximately 1,400 tpy. The decrease in solid waste is directly related to switching to nonatomized resin application equipment (i.e., flowcoaters and resin rollers). Switching to flowcoaters results in a decrease in overspray because of a greater transfer efficiency of resin from flowcoaters to the part being manufactured. A decrease in resin overspray consequently reduces the amount of waste from disposable floor coverings, cured resin waste, and personal protective equipment (PPE) for workers. Disposable floor coverings are replaced on a periodic basis to prevent resin buildup on the floor. We estimate that solid waste generation of floor coverings will decrease by approximately 360 tpy and that cured resin solid waste will decrease by approximately 1,040 tpy.

We project that the decreased overspray from flowcoaters will result in a decreased usage of PPE, which also consequently reduces the amount of solid waste. Workers who use flowcoaters typically wear less PPE than when using spray guns because of the reduced presence of resin aerosols and lower styrene levels in the workplace. Because we did not have information on the many different types of PPE currently used, we did not estimate this decrease in solid waste.

Some facilities that switch from spray guns to flowcoaters may have a small increase of hazardous waste from the used flowcoater cleaning solvents. However, most facilities would not see an increase under this proposed rule, and the overall impact on the industry will be small relative to the solid waste reductions. Nearly all flowcoaters require resin and catalyst to be mixed inside the gun (internal-mix) and must be flushed when work is stopped for more than a few minutes. External-mix spray guns do not need to be flushed because resin is mixed with catalyst outside the gun. Facilities that switch from external-mix spray guns to flowcoaters will use more solvent. Solvent usage should not change at facilities switching from internal-mix spray guns to flowcoaters. The most common flushing solvents are acetone and water-based emulsifiers. Only a couple of ounces of solvent are typically needed to flush the mixing chamber and nozzle of flowcoaters and internal-mix spray guns.

We do not have adequate data to predict the potential solvent waste impact from switching to flowcoaters. The magnitude of the impact depends on the type of gun currently used (internal- or external-mix), the frequency of flushing, and the type of solvent used. However, because of the small amount of solvent used, and since most is allowed to evaporate, we believe the overall solvent waste increase will be small compared to the solid waste reductions.

E. What Are the Energy Impacts?

We determined that the overall energy demand for operations in the Reinforced Plastic Composites Production source category could increase by 159 million standard cubic feet per year of natural gas, and 10 million kilowatt hours of electricity per year as a result of the proposed rule. We determined this net increase based on the additional energy demand for control devices installed to meet the proposed standards. No information for comparison is available on the baseline energy consumption for this source category.

F. What Are the Cost Impacts?

We have estimated the capital costs for emission control equipment, including equipment such as open container covers, resin bath enclosures, capture systems, and control devices as $73.9 million for existing sources and $11.7 million for new sources. The capital costs include the costs to purchase and install the control equipment.

We have estimated that annual costs of the proposed rule are $26.0 million per year for existing sources and $3.2 million for new sources. Annual costs include fixed annual costs, such as reporting, recordkeeping and capital amortization, and variable annual costs such as natural gas. The estimated average cost of the proposed rule is $1,600 per ton of HAP emissions reduction for existing sources and $2,200 per ton of HAP emissions reduction for new sources.

As discussed elsewhere in this preamble, we will review in more depth the industry's analysis on the cost of this proposed rule following proposal. Where appropriate, we will make changes to our estimates of costs based on our review and on comments we receive, and make the results of our detailed review available in the public docket at promulgation.

G. What Are the Economic Impacts?

The Agency conducted a detailed economic impact analysis to determine the market- and industry-level impacts associated with the proposed rule. We expect the aggregate price increase for reinforced plastic composites would be only 0.3 percent, or $0.01 per pound, as a result of the proposed standards. We project that directly affected producers would reduce total production by 0.8 percent, while producers not directly affected would increase their production by 0.3 percent. Markets for reinforced plastic composites used in general construction, corrosion-resistant products, and land transportation are expected to be more heavily impacted with price increases of up to 0.5 percent and reductions in directly affected domestic production of between 1 and 1.5 percent.

In terms of industry impacts, captive producers of reinforced plastic composites are expected to fully absorb their compliance costs, while merchant producers will attempt to pass through costs to their customers. Through the market impacts described above, the proposed NESHAP create both gainers and losers within the merchant segment. Some merchant facilities are projected to experience profit increases with the proposed rule; however, the majority that continue operating are projected to lose profits. Furthermore, the economic impact analysis indicates that 29 out of 299 merchant facilities (9.7 percent) and 73 out of 471 product lines (15.5 percent) at these facilities are at risk of closure because of the proposed NESHAP. All of the facilities determined to be at risk for closure are believed to be small businesses. More information on the measures we have taken to minimize these impacts may be found in the Regulatory Flexibility Act discussion in this preamble.

Based on the market analysis, the annual social costs of the proposed rule are projected to be $25.7 million. These costs are distributed across the many consumers and producers of reinforced plastic composites. Producers, in aggregate, are expected to bear $10.6 million annually in costs, with those directly affected by the proposed NESHAP losing $19.3 million and those not subject to the proposed NESHAP gaining $8.7 million. The consumers of reinforced plastic composites are expected to incur the remaining $15.1 million in costs associated with the proposed NESHAP. For more information, consult the docket for this project.

V. Relationship of Proposed NESHAP to Other Standards and Programs Under the CAA

A. National Emission Standards for Closed Vent Systems, Control Devices, Recovery Devices, and Routing to a Fuel Gas System or a Process (40 CFR Part 63, Subpart SS)

If you use an add-on control device(s) to control emissions, you will need to comply with certain provisions in 40 CFR part 63, subpart SS, for add-on controls. The standards in subpart SS cited by the proposed NESHAP are applicable to most sources using an add-on control device. The proposed NESHAP cite these sections in subpart SS rather than repeating them in the proposed regulatory text.

B. Operating Permit Program

Under the operating permit program codified at 40 CFR parts 70 and 71, all major sources subject to standards under section 111 or 112 of the CAA must obtain an operating permit (See §§ 70.3(a)(1) and 71.3(a)(1)). Therefore, all major sources subject to these proposed NESHAP must obtain an operating permit.

Some reinforced plastic composites production facilities may be major sources based solely on their potential to emit even though their actual emissions are below the major source level. These facilities may choose to obtain a federally enforceable limit on their potential to emit so that they are no longer considered major sources subject to the proposed NESHAP. Sources that opt to limit their potential to emit (e.g., limits on operating hours or amount of material used) are referred to by the EPA as “synthetic area” sources. To become a synthetic area source, you must contact your local permitting authority to obtain an operating permit with the appropriate operating limits. These operating limits will then be federally enforceable under 40 CFR 70.6(b).

C. NESHAP for Plastic Parts and Products

There are currently NESHAP under development for proposal that will regulate coating of plastic parts and products. The SBAR Panel recommended that we consider the interaction of the Plastic Parts and Product NESHAP with today's proposed NESHAP. The Plastic Parts and Products NESHAP may potentially affect facilities that produce reinforced plastic parts and then apply a coating to the finished parts. We have coordinated with this project and have determined that there should be no overlap (i.e., specific operations covered by today's proposed NESHAP should not also be covered in the Plastic Parts and Products NESHAP). We have not determined any requirements of the proposed NESHAP that would overlap, conflict, or cause a duplication of effort.

VI. Administrative Requirements

A. Executive Order 12866: Regulatory Planning and Review

Under Executive Order 12866 (58 FR 51735, October 4, 1993), we must determine whether a proposed regulatory action is “significant” and therefore subject to Office of Management and Budget (OMB) review and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, OMB has notified EPA that it considers this rulemaking a “significant regulatory action” within the meaning of the Executive Order. The EPA submitted this action to OMB for review. Changes made in response to suggestions or recommendations from OMB are documented and included in the public record.

B. Paperwork Reduction Act

The information collection requirements in this proposed rule have been submitted for approval to the OMB under the Paperwork Reduction Act, 44 U.S.C. 3501 et seq. An ICR document has been prepared by EPA (ICR No. ) and a copy may be obtained from Sandy Farmer by mail at the Office of Environmental Information, Collection Strategies Division (2822), U.S. EPA, 1200 Pennsylvania Avenue, NW, Washington, DC 20460, by e-mail at “farmer.sandy@epa.gov,” or by calling (202) 260-2740. A copy may also be downloaded from the internet at “http://www.epa.gov/icr.”

These proposed NESHAP contain monitoring, reporting, and recordkeeping requirements. We believe that the proposed notices and reports are the minimum needed by us to determine if you are subject to the NESHAP and whether you are in compliance. We believe the proposed recordkeeping requirements are the minimum necessary to determine initial and ongoing compliance. Based on reported information, we would decide which reinforced plastic composites facilities and what records or processes should be inspected. The recordkeeping and reporting requirements are consistent with the General Provisions of 40 CFR part 63.

These proposed recordkeeping and reporting requirements are specifically authorized by section 114 of the CAA (42 U.S.C. 7414). All information submitted to us for which a claim of confidentiality is made will be safeguarded according to our policies in 40 CFR part 2.

The EPA expects these proposed NESHAP to affect a total of approximately 486 facilities over the first 3 years after promulgation of the rule. This includes 433 existing facilities, and 53 new reinforced plastic composites facilities will become subject to the proposed NESHAP during the first 3 years.

The estimated average annual burden for the first 3 years after promulgation of these proposed NESHAP for industry and the implementing agency is outlined below. You can find the details of this information collection in the “Standard Form 83 Supporting Statement for ICR No. 1976.01,” in Docket No. A-94-52.

Affected entity | Total hours | Labor costs | Total annual O&M costs | Total costs
Industry | 15,122 | $673,120 | $17,265 | $690,385
Implementing agency | 11,293 | 450,972 | NA | 450,972

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. Control numbers for EPA's regulations are listed in 40 CFR part 9 and 48 CFR chapter 15.

Comments are requested on the Agency's need for this information, the accuracy of the provided burden estimates, and any suggested methods for minimizing respondent burden, including the use of automated collection techniques. Send comments on the ICR to the Director, Office of Environmental Information, Collection Strategies Division (2822), U.S. EPA, 1200 Pennsylvania Avenue NW, Washington, DC 20460; and to the Office of Information and Regulatory Affairs, OMB, 725 17th Street, NW, Washington, DC 20503, marked “Attention: Desk Officer for EPA.” Include the ICR number in any correspondence. Since OMB is required to make a decision concerning the ICR between 30 and 60 days after August 2, 2001, a comment to OMB is best assured of having its full effect if OMB receives it by September 4, 2001. The final rule will respond to any OMB or public comments on the information collection requirements contained in this proposal.

C. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. No reinforced plastic composites production facilities subject to these proposed NESHAP are owned by State or local governments. Therefore, State and local governments will not have any direct compliance costs resulting from this proposed rule. Furthermore, these proposed NESHAP do not require these governments to take on any new responsibilities. Thus, the requirements of section 6 of the Executive Order do not apply to this proposed rule. Thus, Executive Order 13132 does not apply to this rule.

In the spirit of Executive Order 13132, and consistent with EPA policy to promote communications between EPA and State and local governments, EPA specifically solicits comment on this proposed rule from State and local officials.

D. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This proposed rule does not have tribal implications. It will not have substantial direct effects on tribal governments, on the relationship between the Federal government and Indian tribes, or on the distribution of power and responsibilities between the Federal government and Indian tribes, as specified in Executive Order 13175, because we are not aware of any Indian tribal governments or communities affected by the proposed rule. Thus, Executive Order 13175 does not apply to this proposed rule.

In the spirit of Executive Order 13175, and consistent with EPA policy to promote communications between EPA and tribal governments, EPA specifically solicits additional comment on this proposed rule from tribal officials.

E. Unfunded Mandates Reform Act of 1995

Title II of the Unfunded Mandates Reform Act of 1995 (UMRA), Public Law 104-4, establishes requirements for Federal agencies to assess the effects of their regulatory actions on State, local, and tribal governments and the private sector. Under section 202 of the UMRA, we must generally prepare a written statement, including a cost-benefit analysis, for proposed and final rules with “Federal mandates” that may result in expenditures to State, local, and tribal governments, in the aggregate, or to the private sector, of $100 million or more in any 1 year. Before promulgating a rule for which a written statement is needed, section 205 of the UMRA generally requires us to identify and consider a reasonable number of regulatory alternatives and adopt the least costly, most cost effective, or least burdensome alternative that achieves the objectives of the rule. The provisions of section 205 do not apply when they are inconsistent with applicable law. Moreover, section 205 allows us to adopt an alternative other than the least costly, most cost-effective, or least burdensome alternative if the Administrator publishes with the final rule an explanation why that alternative was not adopted. Before we establish any regulatory requirements that may significantly or uniquely affect small governments, including tribal governments, it must have developed under section 203 of the UMRA a small government agency plan. The plan must provide for notifying potentially affected small governments, enabling officials of affected small governments to have meaningful and timely input in the development of our regulatory proposals with significant Federal intergovernmental mandates, and informing, educating, and advising small governments on compliance with the regulatory requirements.

We have determined that this proposed rule does not contain a Federal mandate that may result in expenditures of $100 million or more by State, local, and tribal governments, in the aggregate, or the private sector in any 1 year. The total cost to the private sector is approximately $29.2 million per year. This proposed rule contains no mandates affecting State, local, or Tribal governments. Thus, today's proposed rule is not subject to the requirements of sections 202 and 205 of the UMRA.

We have determined that this proposed rule contains no regulatory requirements that might significantly or uniquely affect small governments because it contains no requirements that apply to such governments or impose obligations upon them.

F. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's proposed rule on small entities, small entity is defined as (1) a small business ranging from 500-1,000 employees; (2) a small governmental jurisdiction that is a government of a city, county, town, school district or special district with a population of less than 50,000; and (3) a small organization that is any not-for-profit enterprise which is independently owned and operated and is not dominant in its field. The table below presents the size threshold for small businesses by SIC Code.

Category | SIC codes | NAICS codes | Maximum number of employees to be considered a small business
Manufacturing | 3621 | 335312 | 1000
| 3711 | 336211, 336112
| 3716 | 33612
| 3728 | 336213
| 3743 | 336413
|  | 33651
| 2821 | 325211 | 750
| 3296 | 327993
| 3431 | 332998
| 3531 | 33312, 33651
| 3612 | 335311
| 3613 | 335313
| 3663 | 33422
| 3714 | 33653, 336399
| All other identified SIC Codes in this source category | All other identified NAICS Codes in this source category | 500

In accordance with section 603 of the RFA, EPA prepared an initial regulatory flexibility analysis (IRFA) that examines the impact of the proposed rule on small entities along with regulatory alternatives that could reduce that impact. The IRFA is available for review in the docket and is summarized below.

Section 112 of the CAA requires us to list categories and subcategories of major sources and, in some cases, area sources of HAP and to establish NESHAP for the listed source categories and subcategories. Reinforced plastic composites production (major sources only) was included on the initial list of source categories published on July 16, 1992 (57 FR 31576). Major sources of HAP are those that have the potential to emit greater than 10 tpy of any one HAP or 25 tpy of any combination of HAP.

The objective of this proposed rule is to apply standards based on maximum achievable control technology to all major sources in this source category. The criteria used to establish MACT are contained in section 112 (d) of the CAA.

Based on SBA size definitions and reported sales and employment data, EPA identified 278 of the 356 companies owning reinforced plastic composites facilities as small businesses. Although small businesses represent almost 80 percent of the companies within the source category, they are expected to incur only 31 percent of the total industry compliance costs of $26.0 million. The average total annual compliance cost is projected to be $30,000 per small company as compared to the industry average of $70,000 per company. Under the proposed standards, the mean annual compliance cost, as a share of sales, for small businesses is 0.7 percent, and the median is 0.4 percent, with a range of 0.01 to 7.5 percent. The EPA estimates that 17 percent of small businesses (or 47 firms) may experience an impact greater than 1 percent of sales, but only 3 percent of small businesses (or 8 firms) may experience an impact greater than 3 percent of sales.

The Agency also performed an economic impact analysis (EIA) that accounted for firm behavior to provide an estimate of the facility and market impacts of the regulation. This industry is characterized by profit margins of 3 to 4 percent. Small businesses were found to have higher per-unit production costs under baseline conditions and incur slightly higher per-unit compliance costs. As a result of these factors, the economic analysis indicates that almost 10 percent of facilities owned by small business are at risk of closure because of this proposed rule.

Although any facility closures are cause for concern, the number of facilities at risk for closure would be the same if this proposed rule required only the MACT floor level of control for all facilities. The MACT floor is the least stringent level allowed by statute. As discussed below, this proposed rule contains a significant number of accommodations for small business. Without additional data, we do not believe we can make the proposed rule any less stringent and comply with the objectives of the CAA. In this regard, we have requested data and comment elsewhere in this preamble on issues relevant to this industry.

The EPA's efforts to minimize small-business impacts have materially improved today's proposal. Economic analysis of provisions under earlier consideration for inclusion in this proposed rule indicated greater impacts on small businesses than those proposed today. In earlier versions, almost 42 percent of the total industry compliance costs would have been incurred by small businesses (compared with 31 percent of costs incurred by small businesses in today's proposal). The average total annual compliance cost would have been roughly $50,000 per small company (compared with $30,000 in today's proposal). About 22 percent of small businesses (or 60 firms) would have experienced an impact greater than 1 percent of sales (compared with 17 percent of small businesses in today's proposal). And 7 percent of small businesses (or 19 firms) would have experienced impacts greater than 3 percent of sales (compared with 3 percent of small businesses in today's proposal). The reduction in small-business costs from earlier versions of this proposed rule is attributable to EPA's outreach and accommodation for small firms in keeping with both RFA and CAA requirements, including the conduct of a SBAR Panel, as discussed further below.

The proposed reporting and recordkeeping requirements for these small businesses include initial notifications, startup notifications and compliance reports. These requirements were discussed in more detail under the discussion of the Paperwork Reduction Act above. We estimate that 302 existing facilities owned by small businesses will be impacted by these requirements, and 53 new facilities will be impacted in the first three years. The professional skills required to complete these reports include the ability to calculate emissions and resin use and read and follow report format guidance. All facilities impacted by this proposed rule should have personnel with the necessary skills because they would need these skills to comply with other regulatory requirements such as Toxic Release Inventory (TRI) reporting.

Provisions to minimize the reporting and recordkeeping requirements on small business have been incorporated into this proposed rule. These provisions include allowing: The facility to substantiate resin and gel coat HAP contents with Material Safety Data Sheets rather then requiring testing of each resin and gel coat; use of resin purchase records to determine resin use; and exemption of facilities that can demonstrate that all their resin and gel coats comply with the required HAP content limits from the requirement to keep records of resin use and calculate point value averages. These provisions have also been extended to all companies subject to today's proposed NESHAP.

These facilities may also be subject to the NESHAP being developed for plastic parts and products. There should be no duplication of effort as a result of this proposed rule and the Plastic Parts and Products NESHAP being developed because these NESHAP will cover different operations. Facilities subject to this proposed rule are also subject to emissions estimate reporting under the TRI requirements. In this proposed rule, we could determine no ways to combine TRI and the reporting requirements of the proposed NESHAP because the objectives and statutory authorities of these requirements are different. However, we invite comments from all interested parties on ways to combine these reports and still meet the statutory requirements of the CAA.

As indicated above, we have incorporated significant alternatives into the proposed rule to minimize the impact on small business but still meet the objectives of the CAA.

As required by section 609(b) of the RFA, EPA conducted outreach to small entities and convened a SBAR panel to review advice and recommendations from representatives of the small entities that potentially would be subject to the proposed rule requirements. The panel convened on April 6, 2000 and was comprised of representatives from OMB, the SBA Office of Advocacy, the EPA Small Business Advocacy Chair, and the Emission Standards Division of the Office of Air Quality Planning and Standards of EPA. The panel solicited advice from 17 small entity representatives (SER) from a cross-section of the different industry sectors likely to be directly regulated by this action. On April 18, 2000, the panel distributed a package of descriptive and technical materials explaining the rule-in-progress to the SER. On May 2, 2000, the panel met with the SER to hear their comments on preliminary options for regulatory flexibility and related information. The panel also received written comments from the SER in response to both the outreach materials and the discussions at the meeting.

Consistent with RFA/SBREFA requirements, the panel evaluated the assembled materials and small-entity comments on issues related to the elements of the IRFA. A copy of the panel report is included in the docket for this proposed rule.

The panel considered numerous regulatory flexibility options in response to concerns raised by the SER. The major concerns included the affordability and technical feasibility of add-on controls, the resin and gel coat HAP contents required to meet some of the MACT floors, and the regulatory treatment of speciality products.

These are the major panel recommendations and EPA's response in today's proposal:

• Recommend setting higher thresholds than EPA had initially considered for requirements to use add-on controls.

Response: In today's action, EPA proposes to allow facilities owned by small firms to emit 250 tpy (as distinct from the 100 tpy limit for facilities owned by large firms) before installing add-on controls.

• Recommend setting the new source floor for small-owned sources at the level of the existing source floor.

Response: Today's proposal includes this provision.

• Recommend establishing separate floors for speciality products.

Response: Today's proposal includes this provision.

• Explore pollution-prevention alternatives to add-on controls.

Response: The EPA did explore this possibility with industry sources. Although we could not devise a workable pollution-prevention alternative to include in today's proposal, the Agency is requesting comment on how such a mechanism might be structured within the requirements of the CAA.

• Recommend allowing individual facilities to use the same resin in all resin application processes.

Response: Today's proposal includes this provision.

• Reconsider the resin HAP content requirement for tooling resins.

Response: Today's proposal includes a revised provision.

• Recommend separate floors for white and non-white gel coats.

Response: Today's proposal includes this provision.

• Reconsider the Agency's estimates of the cost of add-on controls.

Response: Even though today's proposal eliminates the likelihood that existing small-owned facilities will be subject to add-on controls, EPA has reconsidered its cost estimates in light of those offered by the industry. As discussed elsewhere in this preamble, EPA continues to believe our estimates are realistic. Nevertheless, as mentioned in section III-M, we are soliciting comments on all data and assumptions that affect add-on control costs. Moreover, as mentioned previously, we will review in more depth the industry's analysis on the cost of this proposed rule following proposal. Where appropriate, we will make changes to our estimates of costs based on our review and on comments we receive, and make the results of our detailed review available in the public docket at promulgation.

• Recommend grouping high-strength applications with corrosion-resistant operations.

Response: Today's proposal includes this provision.

Detailed information on all these recommendations is contained in the panel report in the docket for this proposed rule.

G. National Technology Transfer and Advancement Act

Section 12(d) of the National Technology Transfer and Advancement Act (NTTAA) of 1995 (Public Law No. 104-113; 15 U.S.C. 272 note) directs EPA to use voluntary consensus standards in their regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to OMB, with explanations when an agency does not use available and applicable voluntary consensus standards.

This proposed rulemaking involves technical standards. The EPA proposes in this rule to use EPA Methods 1, 1A, 2, 2A, 2C, 2D, 2F, 2G, 3, 3A, 3B, 4, 18, 25, 25A, 204, and 204B, C, D, E. Consistent with the NTTAA, the EPA conducted searches to identify voluntary consensus standards in addition to these EPA methods. One voluntary consensus standard was identified as applicable and EPA proposes to use this standard in this proposed rule.

The one consensus standard, ASTM D6420-99, Standard Test Method for Determination of Gaseous Organic Compounds by Direct Interface Gas Chromatography-Mass Spectrometry (GC/MS), is appropriate in the cases described below for inclusion in this proposed rule in addition to the currently available EPA Method 18 codified at 40 CFR part 60, appendix A.

Similar to EPA's performance based Method 18, ASTM D6420-99 is also a performance based method for measurement of gaseous organic compounds. However, ASTM D6420-99 was written to support the specific use of highly portable and automated GC/MS. While offering advantages over the traditional Method 18, the ASTM method does allow some less stringent criteria for accepting GC/MS results than required by Method 18. Therefore, ASTM D6420-99 is a suitable alternative to Method 18 where: (1) The target compound(s) are those listed in Section 1.1 of ASTM D6420-99, and (2) the target concentration is between 150 parts per billion (volume) and 100 ppm(v).

For target compound(s) not listed in Table 1.1 of ASTM D6420-99, but potentially detected by mass spectrometry, the regulation specifies that the additional system continuing calibration check after each run, as detailed in section 10.5.3 of the ASTM method, must be followed, met, documented, and submitted with the data report even if there is no moisture condenser used or the compound is not considered water soluble.

For target compound(s) not listed in Table 1.1 of ASTM D6420-99, and not amenable to detection by mass spectrometry, ASTM D6420-99 does not apply.

As a result, EPA proposes to incorporate by reference (IBR) ASTM 6420-99 into 40 CFR 63.14 for application with proposed subpart WWWW of part 63. The EPA will also cite Method 18 as a gas chromatography (GC) option in addition to ASTM D6420-99. This will allow the continued use of other GC configurations.

In addition to the voluntary consensus standards EPA proposes to use in this proposed rule, the search for emissions monitoring procedures identified 17 other voluntary consensus standards. The EPA determined that 13 of these 17 standards identified for measuring emissions of the HAP or surrogates subject to emission standards in the proposed rule would not be practical due to lack of equivalency, detail, and/or quality assurance/quality control requirements. The remaining four of the 17 consensus standards identified are under development or under EPA review. Therefore, we do not propose to use these voluntary consensus standards in this proposed rulemaking. More information on the reasons we chose not to propose to use these standards is available in the docket for this proposed rule.

The EPA takes comments on proposed compliance demonstration requirements in this proposed rulemaking and specifically invites the public to identify potentially applicable voluntary consensus standards. Commentors should also explain why this proposed rule should adopt these voluntary consensus standards in lieu of or in addition to EPA's methods. Emission test methods and performance specifications submitted for evaluation should be accompanied with a basis for the recommendation, including method validation data and the procedure used to validate the candidate method (if method other than Method 301, 40 CFR part 63, appendix A was used).

Table 6 of proposed subpart WWWW lists the EPA test methods and performance standards. Most of the standards have been used by States and industry for more than 10 years. Nevertheless, under § 63.7(f), the proposal also allows any State or source to apply to EPA for permission to use an alternative methods in place of any of the EPA testing methods or performance standards listed in the proposed NESHAP.

H. Executive Order 13045, Protection of Children from Environmental Health Risks and Safety Risks

Executive Order 13045 (62 FR 19885, April 23, 1997) applies to any rule that: (1) Is determined to be “economically significant” as defined under Executive Order 12866, and (2) concerns an environmental health or safety risk that we have reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. This proposal is not subject to Executive Order 13045 because it is based on technology performance and not on health or safety risks.

List of Subjects in 40 CFR Part 63

Environmental protection, Air pollution control, Hazardous air pollutants, Incorporation by reference, Reporting and recordkeeping requirements, Volatile organic compounds.

Dated: June 22, 2001.
Christine Todd Whitman,
Administrator.

For the reasons stated in the preamble, title 40, chapter I, part 63 of the Code of the Federal Regulations is proposed to be amended as follows:

PART 63—[AMENDED]

1. The authority citation for part 63 continues to read as follows:

Authority: 42 U.S.C. 7401 et seq.

2. Section 63.14 is proposed to be amended by adding paragraph (b)(21) to read as follows:

§ 63.14 Incorporation's by reference

* * * * *

(b) * * *

(21) ASTM D6420-99, Standard Test Method for Determination of Gaseous Organic compounds by Direct Interface Gas Chromatography-Mass spectrometry, IBR approved for § 63.5798 and § 63.5850.

* * * * *

3. Part 63 is proposed to be amended by adding subpart WWWW to read as follows:

Subpart WWWW—National Emission Standards for Hazardous Air Pollutants: Reinforced Plastic Composites Production

Sec.
What This Subpart Covers
63.5780 What is the purpose of this subpart?
63.5785 Am I subject to this subpart?
63.5790 What parts of my plant does this subpart cover?
63.5795 How do I know if my reinforced plastic composites production facility is a new affected source or an existing affected source?
63.5797 What are model point values and how are they used in this subpart?
63.5798 How do I determine my facility's HAP emissions on a tons per year (tpy) basis?
63.5800 When do I have to comply with this subpart?
Standards
63.5805 What standards must I meet to comply with this subpart?
Options for Meeting Standards
63.5810 What are my options for meeting the standards for new and existing open molding and centrifugal casting operations?
63.5820 What are my options for meeting the standards for continuous lamination/casting operations?
63.5825 What are my options for meeting the standards for new pultrusion operations?
63.5830 What are my options for meeting the standards for existing pultrusion operations?
General Compliance Requirements
63.5835 What are my general requirements for complying with this subpart?
Testing and Initial Compliance Requirements
63.5840 By what date must I conduct a performance test or other initial compliance demonstration?
63.5845 When must I conduct subsequent performance tests?
63.5850 How do I conduct performance tests, performance evaluations, and design evaluations?
63.5855 What are my monitor installation and operation requirements?
63.5860 How do I demonstrate initial compliance with the standards?
Additional Compliance Calculation Procedures for Continuous Lamination/Casting Operations
63.5865 What data must I generate to demonstrate compliance with the standards for continuous lamination/casting operations?
63.5870 How do I calculate annual uncontrolled and controlled emissions from my wet-out area(s) and from my oven(s)?
63.5875 How do I determine the capture efficiency of the enclosure on my wet-out area and the capture efficiency of my oven(s)?
63.5880 How do I determine how much neat resin plus is applied to the line and how much neat gel coat plus is applied to the line?
63.5885 How do I calculate percent reduction to demonstrate compliance?
63.5890 How do I calculate an emission factor to demonstrate compliance?
Continuous Compliance Requirements
63.5895 How do I monitor and collect data to demonstrate continuous compliance?
63.5900 How do I demonstrate continuous compliance with the standards?
Notifications, Reports, and Records
63.5905 What notifications must I submit and when?
63.5910 What reports must I submit and when?
63.5915 What records must I keep?
63.5920 In what form and how long must I keep my records?
Other Requirements and Information
63.5925 What parts of the General Provisions apply to me?
63.5930 Who implements and enforces this subpart?
63.5935 What definitions apply to this subpart?
Tables to Subpart WWWW of Part 63

Table 1 to Subpart WWWW of Part 63—Model Equations to Calculate Point Values for Specific Open Molding and Centrifugal Casting Process Streams

Table 2 to Subpart WWWW of Part 63—Compliance Dates for New and Existing Reinforced Plastic Composites Facilities

Table 3 to Subpart WWWW of Part 63—Emission Limits for Existing Small Business Sources Emitting Less Than 250 TPY of HAP, or Other Sources Emitting Less Than 100 TPY of HAP

Table 4 to Subpart WWWW of Part 63—Work Practice Standards

Table 5 to Subpart WWWW of Part 63—Alternative Emission Limits for Open Molding and Centrifugal Casting Operations Where the Standard Is Based on a Percent Reduction Requirement

Table 6 to Subpart WWWW of Part 63—Basic Requirements for Performance Tests, Performance Evaluations, and Design Evaluations for New and Existing Sources Using Add-On Control Devices

Table 7 to Subpart WWWW of Part 63—Options Allowing Use of the Same Resin Across Different Operations That Use the Same Resin Type

Table 8 to Subpart WWWW of Part 63—Initial Compliance With Emission Limits

Table 9 to Subpart WWWW of Part 63—Initial Compliance With Work Practice Standards for Existing Sources

Table 10 to Subpart WWWW of Part 63—Data Requirements for New and Existing Continuous Lamination Lines and Continuous Casting Lines Complying with a Percent Reduction Limit on a Per Line Basis

Table 11 to Subpart WWWW of Part 63—Data Requirements for New and Existing Continuous Lamination and Continuous Casting Lines Complying with a Percent Reduction Limit or a Lbs/Ton Limit on an Averaging Basis

Table 12 to Subpart WWWW of Part 63—Data Requirements for New and Existing Continuous Lamination Lines and Continuous Casting Lines Complying with a Lbs/Ton on a Per Line Basis

Table 13 to Subpart WWWW of Part 63—Applicability and Timing of Notifications

Table 14 to Subpart WWWW of Part 63—Requirements for Reports

Table 15 to Subpart WWWW of Part 63—Applicability of General Provisions (Subpart A) to Subpart WWWW of Part 63

What This Subpart Covers

§ 63.5780 What is the purpose of this subpart?

This subpart establishes national emission standards for hazardous air pollutants (NESHAP) for reinforced plastic composites production. This subpart also establishes requirements to demonstrate initial and continuous compliance with the emission standards.

§ 63.5785 Am I subject to this subpart?

You are subject to this subpart if you own or operate a reinforced plastic composites production facility that is located at a major source of hazardous air pollutants (HAP) emissions. Reinforced plastic composites production consists of operations in which reinforced and/or nonreinforced plastic composites or plastic molding compounds are manufactured. These operations use thermoset resins and/or gel coats that contain styrene and/or methyl methacrylate to produce plastic composites, which contain materials designed to enhance the chemical, physical, and/or thermal properties of the product. Reinforced plastic composites production also includes cleaning, mixing, and material storage associated with the production of plastic composites. Facilities that only repair previously manufactured reinforced plastic composites are not covered by this subpart.

§ 63.5790 What parts of my plant does this subpart cover?

(a) This subpart applies to each new or existing affected source at reinforced plastic composites production facilities.

(b) The affected source consists of all parts of your facility engaged in the following operations: Open molding, closed molding, centrifugal casting, continuous lamination, continuous casting, polymer casting, pultrusion, sheet molding compound (SMC) manufacturing, bulk molding compound (BMC) manufacturing, mixing, cleaning of equipment used in reinforced plastic composites manufacture, material storage, any other plastic composites operations.

§ 63.5795 How do I know if my reinforced plastic composites production facility is a new affected source or an existing affected source?

(a) A reinforced plastic composites production facility is a new affected source if it meets all the criteria in paragraphs (a)(1) and (2) of this section.

(1) You commence construction of the affected source after August 2, 2001.

(2) When you commence construction, no other reinforced plastic composites production affected source exists at that site.

(b) For the purposes of this subpart, an existing affected source is any affected source that is not a new affected source.

§ 63.5797 What are model point values and how are they used in this subpart?

The model point value is a number calculated using the equations in Table 1 to this subpart. Equations are available for each open molding operation and centrifugal casting operation. The model point values have units of pounds (lbs) of HAP per ton of resin or gel coat applied. Point values are used in this subpart to determine compliance with certain emission limits in Tables 3 and 5 of this subpart. The model point values are surrogates for emissions, and the model point value equations are used only for determining compliance with this subpart. The model point value equations cannot be used in place of emission factor equations to demonstrate compliance with other regulations.

§ 63.5798 How do I determine my facility's HAP emissions on a tons per year (tpy) basis?

To determine your facility's HAP emissions, you must use the procedures in either paragraph (a) or (b) of this section and calculate the combined HAP emissions in tpy from the following operations: Open molding, centrifugal casting, continuous lamination, continuous casting, pultrusion, sheet molding compound manufacturing, mixing, and bulk molding compound manufacturing.

(a) For existing facilities, you may use the procedures in either paragraph (a)(1) or (2) of this section.

(1) Use point value equations or emission factors. Calculate a weighted average emission factor on a lbs/ton of resin and gel coat basis. Base the weighted average on the 12 months of operation prior to the effective date of this subpart. Multiply the weighted average emission factor by resin and gel coat use over the same period. You may calculate this emission factor based on the point value equations in Table 1 of this subpart, or you may use any emission factor approved by us such as factors from the Compilation of Air Pollutant Emission Factors, Volume I: Stationary Point and Area Sources (AP-42). This calculation must be repeated and reported annually.

(2) Conduct performance testing. Perform performance testing using the methods specified in this subpart to determine a facility-specific emission factor in lbs of HAP emissions per ton of resin and gel coat used. The test should be performed under conditions expected to result in the highest possible HAP emissions, or the facility must stay within 10 percent of the same mix of operations that occurred during testing. Multiply this factor by annual resin and gel coat use to determine annual emissions.

(b) For new facilities, calculate a weighted average emission factor on a lbs/ton of resin and gel coat basis. Base the weighted average on your projected operation for the 12 months subsequent to facility startup. Multiply the weighted average emission factor by projected resin use over the same period. You may calculate this emission factor based on the point value equations in Table 1 of this subpart, or you may use any emission factor approved by us, such as factors from AP-42, or emission test data from similar facilities. This calculation must be repeated and reported annually.

§ 63.5800 When do I have to comply with this subpart?

(a) You must initially comply with the standards in this subpart by the dates specified in Table 2 to this subpart. Facilities meeting an emissions standard based on a 12-month rolling average must begin collecting data on the compliance date in order to demonstrate compliance.

(b) If your facility is a new affected source and emits less than 100 tpy of HAP at the time of initial compliance with this subpart, and subsequently increases its actual HAP emissions to 100 tpy or more, then your facility must subsequently meet the standards in § 63.5805(d). You must be in compliance with these more stringent standards within 3 years of the date your facility meets or exceeds the 100 tpy threshold.

(c) If your facility is an existing affected source and emits less than 250 tpy of HAP (if you are a small business) or less than 100 tpy of HAP (if you are not a small business) at the time of initial compliance with this subpart, and subsequently increases its actual HAP emissions to 250 tpy or more (small business) or to 100 tpy or more (non-small business), then your facility must subsequently meet the standards at § 63.5805(b). You must be in compliance with these more stringent standards within 3 years of the date your facility meets or exceeds the 250 tpy or 100 tpy threshold.

Standards

§ 63.5805 What standards must I meet to comply with this subpart?

All facilities must meet the requirements of paragraphs (a) through (f) of this section that apply. There are options to meeting these standards described in §§ 63.5810 through 63.5830.

(a) If you have an existing facility that is a small business, as defined by the Small Business Administration's (SBA's) regulations at 13 CFR 121.201, and emits less than 250 tpy of HAP, or a facility that is not a small business and that emits less than 100 tpy of HAP from the combination of all open molding, centrifugal casting, continuous lamination/casting, pultrusion, SMC manufacturing, and mixing/BMC manufacturing, you must meet the annual average emission limits in Table 3 of this subpart and the work practice standards in Table 4 of this subpart that apply to you.

(b) If you have an existing facility that is a small business as defined by the SBA regulations at 13 CFR 121.201 and emits 250 tpy or more of HAP, or if you have a facility that is not a small business and emits 100 tpy or more of HAP from the combination of all open molding, centrifugal casting, continuous lamination/casting, pultrusion, SMC manufacturing, and mixing/BMC manufacturing operations, you must reduce the total HAP emissions from these operations by at least 95 percent by weight and meet any applicable work practice standards in Table 4 of this subpart that apply to you. As an alternative to meeting 95 percent by weight, you may meet the emission limits in Table 5 of this subpart. If you have a continuous lamination/casting operation, that operation may alternatively meet an emission limit of 1.47 lbs of HAP per ton of neat resin plus and neat gel coat plus applied.

(c) If you have a new facility that emits less than 100 tpy of HAP from the combination of all open molding, centrifugal casting, continuous lamination/casting, pultrusion, SMC manufacturing, and mixing/BMC manufacturing, you must meet the annual average emission limits in Table 3 of this subpart and the work practice standards in Table 4 of this subpart that apply to you.

(d) If you have a new facility that emits 100 tpy or more of HAP from the combination of all open molding, centrifugal casting, continuous lamination/casting, pultrusion, SMC manufacturing, and mixing/BMC manufacturing, you must reduce the total HAP emissions from these operations by at least 95 percent by weight and meet any applicable work practice standards in Table 4 of this subpart that apply to you. As an alternative to meeting 95 percent by weight, you may meet the emission limits in Table 5 of this subpart. If you have a continuous lamination/casting operation, that operation may alternatively meet an emission limit of 1.47 lbs of HAP per ton of neat resin plus and neat gel coat plus applied.

(e) If you use an add-on control device to comply with this subpart, you must meet all requirements contained in 40 CFR part 63, subpart SS.

Options for Meeting Standards

§ 63.5810 What are my options for meeting the standards for new and existing open molding and centrifugal casting operations?

You must use one of the following methods in paragraphs (a) through (c) of this section to meet the standards in § 63.5805. The necessary calculations must be completed within 30 days after the end of the each month.

(a) Meet the individual model point values for each operation. Demonstrate that you meet the individual model point values for each open molding operation and for each centrifugal casting operation in Table 3 or 5 of this subpart that apply to you. This is done in two steps. First, determine a point value for each individual resin and gel coat, application method, and control method you use in a particular operation. Then, calculate a weighted average of those point values based on resin and gel coat use. These calculations shall be performed monthly, and within 30 days of the end of the month. You must either be at or below the applicable point value in Table 3 or 5 of this subpart each month, or at or below the applicable point value in Table 3 or 5 of this subpart, based on a 12-month rolling average. The procedures are described in paragraphs (a)(1) and (2) of this section.

(1) Calculate your actual point values for each different process stream within each operation. Process streams within operations are different from each other if any of the following three characteristics vary: The neat resin plus or neat gel coat plus HAP content, the application technique, or the control technique. You must calculate the different process stream point values by using the appropriate model point value equations in Table 1 of this subpart for open molding and for centrifugal casting. If you want to use vapor suppressants to meet the point value for open molding, you must determine the vapor suppressant effectiveness by conducting testing to demonstrate the vapor suppressant effectiveness. If you want to use an add-on control device to meet the point value, you must determine the add-on control factor by conducting capture and control efficiency testing as indicated in Table 6 of this subpart. The point value calculated from the equations in Table 1 of this subpart is multiplied by the add-on control factor to calculate the point value after control. Use Equation 1 of this section to calculate the add-on control factor used in the model point value equations.

Where:

% Control Efficiency = a value calculated from emission test measurements made according to the requirements of Table 6 of this subpart

(2) Calculate your actual operation point value for each calendar month for each open molding operation and for each centrifugal casting operation by calculating the weighted average of the individual process stream point values within each respective operation. To do this, sum the product of your actual process stream point values and the amount of neat resin plus and neat gel coat plus used in each process stream and divide the numerator by the total amount of neat resin plus and neat gel coat plus used in the process streams. Use Equation 2 of this section to calculate your actual individual point value for each operation.

Where:

Actual Process Stream PVi = actual point value from process stream i, lbs/ton

Materiali = neat resin plus or neat gel coat plus used during the calendar month for process stream i, tons

n = number of process streams where you calculated a point value

(b) Point value averaging option. Demonstrate each month that you meet the weighted average point value of the open molding operations and the weighted average point value of the centrifugal casting operations in Table 3 or 5 of this subpart that apply to you. When using this averaging option, do not apply the procedures across open molding and centrifugal casting operations.

(1) Each month calculate the weighted average point value for your facility for that month to determine which point value you must meet. To do this, you must sum the product of the individual point values in Table 3 or 5 of this subpart, and the amount of neat resin plus or neat gel coat plus used in each operation and divide the numerator by the total amount of neat resin plus and neat gel coat plus used in the operation. Use Equation 3 of this section to calculate the weighted average point value.

Where:

PVi = point value from operation i, lbs/ton from Table 3 or 5 of this subpart

Materiali = neat resin plus or neat gel coat plus used during the calendar month for operation i, tons

n = number of operations

(2) Each month calculate your actual weighted average point value. Do this by summing the product of your actual operation point values and the amount of neat resin plus and neat gel coat plus used in each operation and dividing the numerator by the total amount of neat resin plus and neat gel coat plus used in the operation groupings. You must calculate your actual individual point values for each operation as described in paragraphs (a)(1) and (2) of this section. Use Equation 4 of this section to calculate your actual weighted average point value.

Where:

Actual Individual PVi = Actual point value from operation i, lbs/ton

Materiali = neat resin plus or neat gel coat plus used during the calendar month for operation i, tons

n = number of operations

(3) Calculate a 12-month weighted average floor point value and actual point value by summing the values calculated in paragraphs (b)(1) and (2) of this section with the values calculated in the previous 11 months and dividing the result by 12. If the actual value 12-month rolling average is less than or equal to the floor 12-month rolling average, then you are in compliance.

(c) Select one resin point value for multiple operations. If you have any combination of manual resin application, mechanical resin application, filament winding, or centrifugal casting, you may elect to meet the point value for any one of these operations and use that operation's same resin in all of the resin operations listed in this paragraph (c). If you select this option, for purposes of assigning point values and determining compliance, use Table 7 of this subpart which presents the possible combinations based on a facility selecting the application process that results in the highest allowable HAP content resin. The averaging provisions in paragraph (b) of this section may still be used, but you must use the point value(s) according to this paragraph (c) to calculate compliance.

§ 63.5820 What are my options for meeting the standards for continuous lamination/casting operations?

You must use one or more of the options in paragraphs (a) through (d) of this section to meet the standards in § 63.5805. Use the calculation procedures in § 63.5865.

(a) Compliant line option. Demonstrate that each continuous lamination line and each continuous casting line complies with the applicable standard.

(b) Averaging option. Demonstrate that all continuous lamination and continuous casting lines combined comply with the applicable standard.

(c) Add-on control device option. If your operation must meet the 58.5 weight percent emission limit in Table 3 of this subpart, you have the option of demonstrating that you achieve 95 percent control of all wet-out area emissions.

(d) Combination option. Use a combination of options in paragraphs (a) and (b) of this section or, for affected sources at existing facilities, a combination of options in paragraphs (a), (b), and (c) of this section (in which one or more lines meet the standards on their own, two or more lines averaged together meet the standards, and one or more lines have their wet-out areas controlled to a level of 95 percent).

§ 63.5825 What are my options for meeting the standards for new pultrusion operations?

You must use one or more of the options in paragraphs (a) through (c) of this section to meet the 95 percent emission reduction standard in § 63.5805.

(a) Add-on control device option. Capture the emissions and vent them to a control device or any combination of control devices that achieves a 95 percent reduction of HAP emissions. Conduct capture and destruction efficiency testing as indicated in Table 6 of this subpart to determine the percent emission reduction.

(b) Direct die injection with resin drip collection option. Use direct die injection pultrusion machines with resin drip collection systems that meet the following criteria in paragraphs (b)(1) through (3) of this section:

(1) All the resin that is applied to the reinforcement is delivered directly to the die.

(2) No exposed resin is present except at the face of the die.

(3) Resin drip is captured in closed piping and recycled directly to the resin injection chamber.

(c) Combination option. Use a combination of options in paragraphs (a) and (b) of this section in which some lines meet the standards by complying with paragraph (a) of this section, and the remaining lines meet the standards by complying with paragraph (b) of this section.

§ 63.5830 What are my options for meeting the standards for existing pultrusion operations?

You must use one or more of the options in paragraphs (a) through (d) of this section to meet the 60 weight percent emission limit in Table 3 of this subpart as required in § 63.5805.

(a) Add-on control device option. Capture the emissions and vent them to a control device or any combination of control devices that achieves a 60 weight percent reduction of HAP emissions. Conduct capture and destruction efficiency testing as indicated in Table 6 of this subpart to determine the percent HAP emission reduction.

(b) Wet area enclosure with resin drip collection option. Design, install, and operate wet area enclosures and resin drip collection systems on pultrusion machines that meet the criteria in paragraphs (b)(1) through (11) of this section.

(1) The enclosure must cover and enclose the open resin bath and the forming area in which reinforcements are pre-wet or wet-out and moving toward the die(s). The surfaces of the enclosure must be closed except for openings to allow material to enter and exit the enclosure.

(2) For pultrusion machines with a radio frequency pre-heat unit, the enclosure must extend from the beginning of the resin bath to within 12.5 inches or less of the entrance of the radio frequency pre-heat unit. If the stock that is within 12.5 inches or less of the entrance to the radio frequency pre-heat unit has any drip, it must be enclosed. The stock exiting the radio frequency pre-heat unit is not required to be in an enclosure if the stock has no drip between the exit of the radio frequency pre-heat unit to within 0.5 inches of the entrance of the die.

(3) For open bath pultrusion machines without a radio frequency pre-heat unit, the enclosure must extend from the beginning of the resin bath to within 0.5 inches or less of the die entrance.

(4) For pultrusion lines with a pre-wet area prior to direct die injection, the enclosure must extend from the point at which the resin is applied to the reinforcement to within 12.5 inches or less of the entrance of the die(s). If the stock that is within 12.5 inches or less of the entrance to the die has any drip, it must be enclosed.

(5) The enclosure can only be constructed high enough to clear the highest part of the pultrusion line that must be inside the enclosure.

(6) The total open area of the enclosure must not exceed 2 times the cross sectional area of the puller window(s) and must comply with the requirements in paragraphs (b)(6)(i) through (iii) of this section.

(i) All areas which are open need to be included in the total open area calculation with the exception of access panels, doors, and/or hatches that are part of the enclosure.

(ii) The area which is displaced by entering reinforcement or exiting product is considered open.

(iii) Areas that are covered by brush covers are considered closed.

(7) Open areas for level control devices, monitoring devices, agitation shafts, and/or fill hoses must have no more than 1.0 inch clearance.

(8) The access panels, doors, and/or hatches that are part of the enclosure must close tightly to avoid vapor leakage. Damaged access panels, doors, and/or hatches that allow vapor leakage must be replaced.

(9) The enclosure may not be removed from the pultrusion line and access panels, doors, and/or hatches that are part of the enclosure must remain closed whenever resin is in the bath except for the time period discussed in paragraph (b)(10) of this section.

(10) The maximum length of time the enclosure may be removed from the pultrusion line or the access panels, doors, and/or hatches and may be open is 30 minutes per 8 hour shift (or 45 minutes per 12 hour shift).

(11) No fans, blowers, and/or air lines may be allowed within the enclosure. The enclosure must not be ventilated.

(c) Direct die injection with resin drip collection option. Use direct die injection pultrusion machines with resin drip collection systems that meet all the criteria in paragraphs (c)(1) through (3) of this section.

(1) All the resin that is applied to the reinforcement is delivered directly to the die.

(2) No exposed resin is present except at the face of the die.

(3) Resin drip is captured in closed piping and recycled directly to the resin injection chamber.

(d) Combination option. Use a combination of options in paragraphs (a) through (c) of this section in which different pultrusion lines comply with different options described in paragraphs (a) through (c) of this section.

General Compliance Requirements

§ 63.5835 What are my general requirements for complying with this subpart?

(a) You must be in compliance at all times with the work practice standards in Table 4 of this subpart, as well as emission limits in Table 3 or 5 of this subpart, as applicable, that you are meeting without the use of add-on controls.

(b) You must be in compliance with all emission limits in this subpart that you meet using add-on controls, except during periods of startup, shutdown, and malfunction.

(c) You must always operate and maintain your affected source, including air pollution control and monitoring equipment, according to the provisions in § 63.6(e)(1)(i).

(d) You must develop and implement a written startup, shutdown, and malfunction plan according to the provisions in § 63.6(e)(3) for any emission limits you meet using an add-on control.

Testing and Initial Compliance Requirements

§ 63.5840 By what date must I conduct a performance test or other initial compliance demonstration?

You must conduct performance tests, performance evaluations, design evaluations, capture efficiency testing, and other initial compliance demonstrations by the compliance date specified in Table 2 of this subpart with two exceptions. Open molding and centrifugal casting operations that elect to meet a point value on a 12-month rolling average must initiate collection of the required data on the compliance date, and demonstrate compliance 1 year and 30 days after the compliance date. New and existing sources that are required to use add-on controls to initially meet compliance must demonstrate compliance 180 days after the compliance date.

§ 63.5845 When must I conduct subsequent performance tests?

You must also conduct a performance test every 5 years following the initial performance test for any standards you meet with an add-on control device.

§ 63.5850 How do I conduct performance tests, performance evaluations, and design evaluations?

(a) If you are using any add-on controls to meet an emission limit in this subpart, you must conduct each performance test, performance evaluation, and design evaluation in 40 CFR part 63, subpart SS, that applies to you.

(b) Each performance test must be conducted according to the requirements in § 63.7(e)(1) and under the specific conditions that 40 CFR part 63, subpart SS, specifies.

(c) Each performance evaluation must be conducted according to the requirements in § 63.8(e) and under the specific conditions that 40 CFR part 63, subpart SS, specifies.

(d) You may not conduct performance tests or performance evaluations during periods of startup, shutdown, or malfunction, as specified in § 63.7(e)(1).

(e) You must conduct three separate test runs for each performance test required in this section, as specified in § 63.7(e)(3). Each test run must last at least 1 hour.

(f) You must conduct a design evaluation of any permanent total enclosures as specified by EPA Method 204. If your enclosure does not meet the Method 204 design and operation requirements for a permanent total enclosure, you must test the enclosure to determine the capture efficiency by Methods 2B through E or an alternative method that meets the data quality objectives and lower confidence limit approaches contained in 40 CFR part 63, subpart KK. Test runs for Methods 2B through E or alternative test methods must be at least 3 hours.

§ 63.5855 What are my monitor installation and operation requirements?

You must monitor and operate all add-on control devices according to the procedures in 40 CFR part 63, subpart SS.

§ 63.5860 How do I demonstrate initial compliance with the standards?

(a) You must demonstrate initial compliance with each emission standard in paragraphs (a) through (d) of § 63.5805 that applies to you, as shown in Tables 8 and 9 of this subpart.

(b) If using an add-on control device, you must establish each site-specific operating limit in 40 CFR part 63, subpart SS, that applies to you.

Additional Compliance Calculation Procedures For Continuous Lamination/Casting Operations

§ 63.5865 What data must I generate to demonstrate compliance with the standards for continuous lamination/casting operations?

(a) For continuous lamination/casting affected sources complying with a percent reduction requirement, you must generate the data identified in Tables 10 and 11 of this subpart for each data requirement that applies to your facility.

(b) For continuous lamination/casting affected sources complying with a lbs/ton limit, you must generate the data identified in Tables 11 and 12 of this subpart for each data requirement that applies to your facility.

§ 63.5870 How do I calculate annual uncontrolled and controlled emissions from my wet-out area(s) and from my oven(s)?

To calculate your annual uncontrolled and controlled emissions from your wet-out areas and from your ovens, you must develop uncontrolled and controlled wet-out area and uncontrolled and controlled oven emission estimation equations or factors to apply to each formula applied on each line, determine how much of each formula for each end product is applied each year on each line, and assign uncontrolled and controlled wet-out area and uncontrolled and controlled oven emission estimation equations or factors to each formula. You must determine the overall capture efficiency using the procedures in Table 6 of this subpart.

(a) To develop uncontrolled and controlled emission estimation equations and factors, you must, at minimum, do the following as specified in paragraphs (a)(1) through (6) of this section:

(1) Identify each end product and the thickness of each end product produced on the line. Separate end products into the following end product groupings, as applicable: corrosion-resistant gel coated end products, noncorrosion-resistant gel coated end products, corrosion-resistant nongel coated end products, and noncorrosion-resistant nongel coated end products. This step creates end product/thickness combinations.

(2) Identify each formula used on the line to produce each end product/thickness combination. Identify the amount of each such formula applied (need to specify a time frame). Rank each formula used to produce each end product/thickness combination according to usage within each end product/thickness combination.

(3) For each end product/thickness combination being produced, select the formula with the highest usage rate for testing.

(4) If not already selected, also select the worst-case formula (likely to be associated with the formula with the highest HAP content, type of HAP, application of gel coat, thin product, low line speed, higher resin table temperature) amongst all formulae. (You may use the results of the worst-case formula test for all formulae if desired to limit the amount of testing required.)

(5) For each formula selected for testing, conduct at least one test (consisting of three runs). During the test, track information on HAP content and type of HAP, end product thickness, line speed, and resin temperature on the wet-out area table.

(6) Using the test results, develop uncontrolled and controlled emission estimation equations (or factors) or series of equations (or factors) that best fit the results for estimating uncontrolled and controlled emissions, taking into account the HAP content and type of HAP, end product thickness, line speed, and resin temperature on the wet-out area table.

(b) In lieu of using the method specified in paragraph (a) of this section for developing uncontrolled and controlled emission estimation equations and factors, you may use any of the methods specified in paragraphs (b)(1) through (4) of this section, as applicable.

(1) For either uncontrolled or controlled emission estimates, you may use previously established, facility-specific emission equations or factors, provided they allow estimation of both wet-out area and oven emissions, where necessary, and have been approved by the regulatory agency. If a previously established equation or factor is specific to the wet-out area only or to the oven only, then you must develop the corresponding uncontrolled or controlled equation or factor for the other emission source.

(2) For uncontrolled (controlled) emission estimates, you may use controlled (uncontrolled) emission estimates and control device destruction efficiency to calculate your uncontrolled (controlled) emissions provided the control device destruction efficiency was calculated at the same time you collected the data to develop your facility's controlled (uncontrolled) emission estimation equations and factors.

(c) Assign to each formula an uncontrolled emission estimation equation or factor based on the end product/ thickness combination for which that formula is used.

(d)(1) To calculate your annual uncontrolled emissions from wet-out areas that do not have any capture and control from wet-out areas that are captured by an enclosure but are vented to the atmosphere and not to a control device, multiply each formula's annual usage by its appropriate emission estimation equation or factor and sum the individual results.

(2) To calculate your annual uncontrolled emissions that escape from the enclosure on the wet-out area, multiply each formula's annual usage by its appropriate uncontrolled emission estimation equation or factor, sum the individual results, and multiply the summation by 1 minus the percent capture (expressed as a fraction).

(3) To calculate your annual uncontrolled oven emissions, multiply each formula's annual usage by its appropriate uncontrolled emission estimation equation or factor and sum the individual results.

(4) To calculate your annual controlled emissions, multiply each formula's annual usage by its appropriate emission estimation equation or factor and sum the individual results to obtain total annual controlled emissions.

(e) Where a facility is calculating both uncontrolled and controlled emission estimation equations and factors, you must test the same formulae. In addition, you must develop both sets of equations and factors from the same tests.

§ 63.5875 How do I determine the capture efficiency of the enclosure on my wet-out area and the capture efficiency of my oven(s)?

(a) The capture efficiency of a wet-out area enclosure is assumed to be 100 percent if it meets the design and operation requirements for a permanent total enclosure specified in EPA Method 204. If a permanent total enclosure does not exist, then a temporary total enclosure must be constructed and verified using Method 204, and capture efficiency testing must be determined using Methods 204B through E.

(b) The capture efficiency of an oven is to be considered 100 percent provided the oven is operated under negative pressure.

§ 63.5880 How do I determine how much neat resin plus is applied to the line and how much neat gel coat plus is applied to the line?

Use the following procedures to determine how much neat resin plus and neat gel coat plus is applied to the line each year.

(a) Track formula usage by end product/thickness combinations.

(b) Use in-house records to show usage. This may be either from automated systems or manual records.

(c) Record daily the usage of each formula/end product combination on each line. This is to be recorded at the end of each run (i.e., when a changeover in formula or product is made) and at the end of each shift.

(d) Sum the amounts from the daily records to calculate annual usage of each formula/end product combination by line.

§ 63.5885 How do I calculate the percent reduction to demonstrate compliance?

(a) Compliant line option. If all of your wet-out areas have permanent enclosures that meet the requirements of Method 204 for a permanent total enclosure, and all of your wet-out area emissions and oven emissions are vented to an add-on control device, use Equation 1 of this section to demonstrate compliance. In all other situations, use Equation 2 of this section to demonstrate compliance.

Where:

PR = percent reduction

Inlet = emissions entering the control device, lbs per year

Outlet = emissions exiting the control device to the atmosphere, lbs per year

Where:

PR = percent reduction

WAEu = uncontrolled wet-out area emissions, lbs per year

Ou = uncontrolled oven emissions, lbs per year

WAEc = controlled wet-out area emissions, lbs per year

Oc = controlled oven emissions, lbs per year

(b) Averaging Option. Use Equation 3 of this section to calculate percent reduction.

Where:

PR = percent reduction

WAEui = uncontrolled emissions from wet-out area i, lbs per year

Ouj = uncontrolled emissions from oven j, lbs per year

WAEci = controlled emissions from wet-out area i, lbs per year

Ocj = controlled emissions from oven j, lbs per year

i = number of wet-out areas

j = number of ovens

m = number of wet-out areas uncontrolled

n = number of ovens uncontrolled

o = number of wet-out areas controlled

p = number of ovens controlled

(3) Add-on control device option. Use Equation 1 of this section to calculate percent reduction.

(4) Combination option. Use Equations 1 through 3 of this section, as applicable, to calculate percent reduction.

§ 63.5890 How do I calculate an emission factor to demonstrate compliance?

(a) Compliant line option. Use Equation 1 of this section to calculate an emission factor in lbs/ton.

Where:

E = emission factor in lbs/ton of resin and gel coat

WAEu = uncontrolled wet-out area emissions, lbs per year

WAEc = controlled wet-out area emissions, lbs per year

Ou = uncontrolled oven emissions, lbs per year

Oc = controlled oven emissions, lbs per year

R = total usage of neat resin plus, tpy

G = total usage of neat gel coat plus, tpy

(b) Averaging option. Use Equation 2 of this section to demonstrate compliance.

Where:

E = emission factor in lbs/ton of resin and gel coat

WAEui = uncontrolled emissions from wet-out area i, lbs per year

WAEci = controlled emissions from wet-out area i, lbs per year

Ouj = uncontrolled emissions from oven j, lbs per year

Ocj = controlled emissions from oven j, lbs per year

i = number of wet-out areas

j = number of ovens

m = number of wet-out areas uncontrolled

n = number of ovens uncontrolled

o = number of wet-out areas controlled

p = number of ovens controlled

R = total usage of neat resin plus, tpy

G = total usage of neat gel coat plus, tpy

(c) Combination option. Use Equations 1 and 2 of this section, as applicable, to demonstrate compliance.

Continuous Compliance Requirements

§ 63.5895 How do I monitor and collect data to demonstrate continuous compliance?

(a) You must collect and keep a record of data as indicated in 40 CFR part 63, subpart SS.

(b) You must monitor and collect data as specified in paragraphs (b)(1) through (4) of this section.

(1) Except for monitoring malfunctions, associated repairs, and required quality assurance or control activities (including, as applicable, calibration checks and required zero and span adjustments), you must conduct all monitoring in continuous operation (or collect data at all required intervals) at all times that the affected source is operating.

(2) You may not use data recorded during monitoring malfunctions, associated repairs, and required quality assurance or control activities for purposes of this subpart, including data averages and calculations, or fulfilling a minimum data availability requirement, if applicable. You must use all the data collected during all other periods in assessing the operation of the control device and associated control system.

(3) At all times, you must maintain necessary parts for routine repairs of the monitoring equipment.

(4) A monitoring malfunction is any sudden, infrequent, not reasonably preventable failure of the monitoring equipment to provide valid data. Monitoring failures that are caused in part by poor maintenance or careless operation are not malfunctions.

(c) You must collect and keep records of resin and gel coat use, HAP content, and operation where the resin is used if you are meeting any emission limits based on a point value. Resin use records may be based on purchase records if you can reasonably estimate how the resin is applied. The HAP content records may be based on Material Safety Data Sheets or on resin specifications supplied by the resin supplier.

(d) If you initially demonstrate that all resins and gel coats meet the applicable point value emission limits, then resin and gel coat use records are not required. If after this initial demonstration, you change to a higher HAP resin or gel coat, or increase the resin or gel coat HAP content, or change to a higher emitting resin or gel coat application method, then you must either again demonstrate that all resins and gel coats still meet the applicable point value emission limits, or begin collecting resin use records and calculate compliance on a 12-month rolling average.

(e) You must record all times that wet area enclosures on any pultrusion machines are open, and resin is present in the resin bath.

§ 63.5900 How do I demonstrate continuous compliance with the standards?

(a) You must demonstrate continuous compliance with each standard in § 63.5805 that applies to you according to the methods specified in paragraphs (a)(1) through (3) of this section.

(1) Compliance with emission limits for sources using add-on control devices is demonstrated following the procedures in 40 CFR part 63, subpart SS. Sources using add-on controls may also use continuous emission monitors to demonstrate continuous compliance as an alternative to control parameter monitoring.

(2) Compliance with emission limits using the point value system is demonstrated by maintaining a point value less than or equal to the appropriate point value listed in Table 3 or 5 of this subpart, on a 12-month rolling average, or by including in each compliance report a certification that all resins and gel coats meet the appropriate point value limits, as discussed in § 63.5895(d).

(3) Compliance with the work practice standards in Table 4 of this subpart is demonstrated by performing the work practice required for your operation.

(b) You must report each deviation from each standard that applies to you in § 63.5805. The deviations must be reported according to the requirements in § 63.5910.

(c) With the exception provided in paragraph (d) of this section, during periods of startup, shutdown or malfunction, you must meet the emission limits and work practice standards that apply to you.

(d) During periods of startup, shutdown, or malfunction, you do not need to meet the standard(s) in § 63.5805 that require an add-on control device, but you must operate your affected source in accordance with the startup, shutdown, and malfunction plan and meet all standards that do not require the operation of the add-on control device.

(e) Consistent with §§ 63.6(e) and 63.7(e)(1), deviations that occur during a period of malfunction for those affected sources and standards specified in paragraph (d) of this section are not violations if you demonstrate to the Administrator's satisfaction that you were operating in accordance with the startup, shutdown, and malfunction plan. The Administrator will determine whether deviations that occur during a period of startup, shutdown, and malfunction are violations, according to the provisions in § 63.6(e).

Notifications, Reports, And Records

§ 63.5905 What notifications must I submit and when?

(a) You must submit all of the notifications in Table 13 of this subpart that apply to you, by the dates in Table 13 of this subpart. The notifications are described more fully in subpart A, General Provisions, referenced in Table 13.

(b) If you change any information submitted in any notification, you must submit the changes in writing to the Administrator within 15 calendar days after the change.

§ 63.5910 What reports must I submit and when?

(a) You must submit each report in Table 14 of this subpart that applies to you.

(b) Unless the Administrator has approved a different schedule for submission of reports under § 63.10(a), you must submit each report by the date in Table 14 of this subpart and according to paragraphs (b)(1) through (5) of this section.

(1) The first compliance report must cover the period beginning on the compliance date that is specified for your affected source in § 63.5800 and ending on June 30 or December 31, whichever date is the first date following the end of the first calendar half after the compliance date that is specified for your source in § 63.5800.

(2) The first compliance report must be postmarked or delivered no later than July 31 or January 31, whichever date follows the end of the first calendar half after the compliance date that is specified for your affected source in § 63.5800.

(3) Each subsequent compliance report must cover the semiannual reporting period from January 1 through June 30 or the semiannual reporting period from July 1 through December 31.

(4) Each subsequent compliance report must be postmarked or delivered no later than July 31 or January 31, whichever date is the first date following the end of the semiannual reporting period.

(5) For each affected source that is subject to permitting requirements pursuant to 40 CFR part 70 or 71, and if the permitting authority has established dates for submitting semiannual reports pursuant to § 70.6(3)(iii)(A) or § 71.6(3)(iii)(A), you may submit the first and subsequent compliance reports according to the dates the permitting authority has established instead of according to the dates in paragraphs (b)(1) through (4) of this section.

(c) The compliance report must contain the information in paragraphs (c)(1) through (6) of this section:

(1) Company name and address.

(2) Statement by a responsible official with that official's name, title, and signature, certifying the truth, accuracy, and completeness of the content of the report.

(3) Date of the report and beginning and ending dates of the reporting period.

(4) If you had a startup, shutdown or malfunction during the reporting period and you took actions consistent with your startup, shutdown, and malfunction plan, the compliance report must include the information in § 63.10(d)(5)(i).

(5) If there are no deviations from any emission limitations (emission limit and operating limit) that applies to you, and there are no deviations from the requirements for work practice standards in Table 4 of this subpart, a statement that there were no deviations from the emission limitations or work practice standards during the reporting period.

(6) If there were no periods during which the continuous monitoring system (CMS), including a continuous emission monitoring system (CEMS), and operating parameter monitoring systems was out of control as specified in § 63.8(c)(7), a statement that there were no periods during the which the CMS was out of control during the reporting period.

(d) For each deviation from an emission limitation (i.e., emission limit, operating limit) and for each deviation from the requirements for work practice standards that occurs at an affected source where you are not using a CMS to comply with the emission limitations or work practice standards in this subpart, the compliance report must contain the information in paragraphs (c)(1) through (4) of this section and in paragraphs (d)(1) and (2) of this section. This includes periods of startup, shutdown, and malfunction.

(1) The total operating time of each affected source during the reporting period.

(2) Information on the number, duration, and cause of deviations (including unknown cause, if applicable), as applicable, and the corrective action taken.

(e) For each deviation from an emission limitation (i.e., emission limit and operating limit) occurring at an affected source where you are using a CMS to comply with the emission limitation in this subpart, you must include the information in paragraphs (c)(1) through (4) of this section and in paragraphs (e)(1) through (12) of this section. This includes periods of startup, shutdown, and malfunction.

(1) The date and time that each malfunction started and stopped.

(2) The date and time that each CMS was inoperative, except for zero (low-level) and high-level checks.

(3) The date, time and duration that each CMS was out of control, including the information in § 63.8(c)(8).

(4) The date and time that each deviation started and stopped, and whether each deviation occurred during a period of startup, shutdown, or malfunction, or during another period.

(5) A summary of the total duration of the deviation during the reporting period and the total duration as a percent of the total source operating time during that reporting period.

(6) A breakdown of the total duration of the deviations during the reporting period into those that are due to startup, shutdown, control equipment problems, process problems, other known causes, and other unknown causes.

(7) A summary of the total duration of CMS downtime during the reporting period and the total duration of CMS downtime as a percent of the total source operating time during that reporting period.

(8) An identification of each hazardous air pollutant that was monitored at the affected source.

(9) A brief description of the process units.

(10) A brief description of the CMS.

(11) The date of the latest CMS certification or audit.

(12) A description of any changes in CMS, processes, or controls since the last reporting period.

(f) Each affected source that has obtained a title V operating permit pursuant to 40 CFR part 70 or 71 must report all deviations as defined in this subpart in the semiannual monitoring report required by § 70.6(a)(3)(iii)(A) or § 71.6(a)(3)(iii)(A). If an affected source submits a compliance report pursuant to Table 14 of this subpart along with, or as part of, the semiannual monitoring report required by § 70.6(a)(3)(iii)(A) or § 71.6(a)(3)(iii)(A), and the compliance report includes all required information concerning deviations from any emission limitation (including any operating limit) or work practice requirement in this subpart, submission of the compliance report shall be deemed to satisfy any obligation to report the same deviations in the semiannual monitoring report. However, submission of a compliance report shall not otherwise affect any obligation the affected source may have to report deviations from permit requirements to the permit authority.

(g) You should submit compliance reports and startup, shutdown, malfunction reports based on the requirements in Table 14 of this subpart. You do not need to consider the requirements in § 63.999 when submitting these reports.

§ 63.5915 What records must I keep?

(a) You must keep the records listed in paragraphs (a)(1) through (3) of this section.

(1) A copy of each notification and report that you submitted to comply with this subpart, including all documentation supporting any Initial Notification or Notification of Compliance Status that you submitted, according to the requirements in § 63.10(b)(2)(xiv).

(2) The records in § 63.6(e)(3)(iii) through (v) related to startup, shutdown, and malfunction.

(3) Records of performance tests, design, and performance evaluations as required in § 63.10(b)(2)(viii).

(b) If you use an add-on control device, you must keep all records required in 40 CFR part 63, subpart SS, to show continuous compliance with this subpart.

(c) You must keep all data, assumptions, and calculations used to determine point values for operations listed in Tables 3 and 5 of this subpart.

(d) You must keep a certified statement that you are in compliance with the work practice requirements in Table 4 of this subpart, as applicable.

(e) For a new or existing continuous lamination/ casting operation, you must keep the records listed in paragraphs (e)(1) through (4) of this section, when complying with the percent reduction and/or lbs/ton requirements specified in paragraphs (a) through (d) of § 63.5805.

(1) You must keep all data, assumptions, and calculations used to determine percent reduction and/or lbs/ton as applicable;

(2) You must keep a brief description of the rationale for the assignment of an equation or factor to each formula;

(3) When using facility-specific emission estimation equations or factors, you must keep all data, assumptions, and calculations used to derive the emission estimation equations and factors and identification and rationale for the worst-case formula; and

(4) For all emission estimation equations and emission factors, you must keep documentation that the appropriate regulatory agency has approved them.

§ 63.5920 In what form and how long must I keep my records?

(a) You must maintain all applicable records in such a manner that they can be readily accessed and are suitable for inspection according to § 63.10(b)(1).

(b) As specified in § 63.10(b)(1), you must keep each record for 5 years following the date of each occurrence, measurement, maintenance, corrective action, report, or record.

(c) You must retain your records of the most recent 2 years onsite, or your records must be accessible to an inspector while onsite. Your records of the remaining 3 years may be retained offsite.

Other Requirements and Information

§ 63.5925 What parts of the General Provisions apply to me?

Table 15 of this subpart shows which parts of the General Provisions in §§ 63.1 through 63.15 apply to you.

§ 63.5930 Who implements and enforces this subpart?

(a) This subpart can be administered by us, the EPA, or a delegated authority such as your State, local, or tribal agency. If the EPA Administrator has delegated authority to your State, local, or tribal agency, then that agency has the authority to administer and enforce this subpart. You should contact your EPA Regional Office to find out if this subpart is delegated to your State, local, or tribal agency.

(b) In delegating implementation and enforcement authority of this subpart to a State, local, or tribal agency under section 40 CFR part 63, subpart E, the authorities contained in paragraph (c) of this section are not delegated.

(c) The authorities that will not be delegated to State, local, or tribal agencies are listed in paragraphs (c)(1) through (4) of this section:

(1) Approval of alternatives to the emission standards in § 63.5805 under § 63.6(g).

(2) Approval of major alternatives to test methods under § 63.7(e)(2)(ii) and (f) and as defined in § 63.90.

(3) Approval of major alternatives to monitoring under § 63.8(f) and as defined in § 63.90.

(4) Approval of major alternatives to recordkeeping and reporting under § 63.10(f) and as defined in § 63.90.

§ 63.5935 What definitions apply to this subpart?

Terms used in this subpart are defined in the Clean Air Act, in 40 CFR 63.2, the General Provisions, and in this section as follows:

Atomized mechanical application means application of resin or gel coat with spray equipment that separates the liquid into a fine mist. This fine mist may be created by forcing the liquid under high pressure through an elliptical orifice, bombarding a liquid stream with directed air jets, or a combination of these techniques.

Bulk molding compound (BMC) means a putty-like molding compound that contains resins, catalysts, fillers, and reinforcements in a form that is ready to mold. Bulk molding compound can be used in compression molding and injection molding operations to manufacture reinforced plastic composites products.

BMC manufacturing means a process that involves the preparation of BMC.

BMC manufacturing/mixing means a grouping of processes that involves BMC manufacturing and/or mixing.

Centrifugal casting means a process for fabricating cylindrical composites, such as pipes, in which composite materials are positioned inside a rotating hollow mandrel and held in place by centrifugal forces until the part is cured.

Charge means the amount of SMC or BMC that is placed into a compression or injection mold to complete one mold cycle.

Cleaning means removal of composite materials, such as cured and uncured resin from equipment, finished surfaces, floors, hands of employees, or any other surfaces.

Clear production gel coat means an unpigmented, unfilled, quick-setting resin used to improve the surface appearance and/or performance of composites. It can be used to form the surface layer of any composites other than those used for molds in tooling operations.

Closed molding means a grouping of processes for fabricating composites in a way that HAP-containing materials are not exposed to the atmosphere except during the material loading stage (e.g., compression molding, injection molding, and resin transfer molding).

Composite means a shaped and cured part produced by using composite materials.

Composite materials means a combination of the following materials: resin, gel coat, monomer, catalyst, pigment, filler, and reinforcement.

Compression molding means a closed molding process for fabricating composites in which composite materials are placed inside matched metal dies that are used to cure the materials under heat and pressure without exposure to the atmosphere. The composite materials used in this process are generally SMC or BMC.

Compression/injection molding means a grouping of processes that involves the use of compression molding and/or injection molding.

Continuous casting means a continuous process for fabricating composites in which composite materials are placed on an in-line conveyor belt to produce cast sheets that are cured in an oven.

Continuous lamination means a continuous process for fabricating composites in which composite materials are typically sandwiched between plastic films, pulled through compaction rollers, and cured in an oven. This process is generally used to produce flat or corrugated products on an in-line conveyor.

Continuous lamination/casting means a grouping of processes that involves the use of continuous lamination and/or continuous casting.

Controlled emissions means those emissions that are vented from a control device to the atmosphere.

Corrosion-resistant end-use applications means applications where the product is manufactured specifically for an application that requires a level of chemical inertness or resistance to chemical attack above that required for typical reinforced plastic composites products. These applications include, but are not limited to, chemical processing and storage; pulp and paper production; sewer and wastewater treatment; power generation; potable water transfer and storage; food and drug processing; pollution or odor control; metals production and plating; semiconductor manufacturing; petroleum production, refining, and storage; mining; textile production; nuclear materials storage; swimming pools; and cosmetic production, as well as end-use applications that require high strength resins.

Corrosion-resistant industry standard includes the following standards: ASME RTP-1 or Sect. X; ASTM D5364, D3299, D4097, D2996, D2997, D3262, D3517, D3754, D3840, D4024, D4160, D4161, D4162, D4184, D3982, or D3839; ANSI/AWWA C950; UL 1316 or UL 1746, or written customer requirements for resistance to specified chemical environments.

Corrosion-resistant product means a product made with a corrosion-resistant resin and is manufactured to a corrosion-resistant industry standard, or a food contact industry standard, or is manufactured for corrosion-resistant end-use applications involving continuous or temporary chemical exposures.

Corrosion-resistant resin means a resin that either: (1) Displays substantial retention of mechanical properties when undergoing ASTM C-581 coupon testing, where the resin is exposed for 6 months or more to one of the following materials: material with a pH ≥ 12.0 or ≤ 3.0, oxidizing or reducing agents, organic solvents, or fuels or fuel additives as defined in 40 CFR 79.2. In the coupon testing, the exposed resin needs to demonstrate a minimum of 50 percent retention of the relevant mechanical property compared to the same resin in unexposed condition. In addition, the exposed resin needs to demonstrate an increased retention of the relevant mechanical property of at least 20 percent when compared to a similarly exposed general-purpose resin. For example, if the general-purpose resin retains 45 percent of the relevant property when tested as specified above, then a corrosion-resistant resin needs to retain at least 65 percent (45 percent plus 20 percent) of its property. The general-purpose resin used in the test needs to have an average molecular weight of greater than 1,000, be formulated with a 1:2 ratio of maleic anhydride to phthalic anhydride and 100 percent diethylene glycol, and a styrene content between 43 to 48 percent; or

(2) Complies with industry standards that require specific exposure testing to corrosive media, such as UL 1316, UL 1746, or ASTM F-1216.

Doctor box means the box or trough on an SMC machine into which the liquid resin paste is delivered before it is metered onto the carrier film.

Filament winding means an open molding process for fabricating composites in which reinforcements are fed through a resin bath and wound onto a rotating mandrel. The materials on the mandrel may be rolled out or worked by using nonmechanical tools prior to curing. Resin application to the reinforcement on the mandrel by means other than the resin bath, such as spray guns, pressure-fed rollers, flow coaters, or brushes is not considered filament winding.

Filled means that fillers have been added to a resin such that the amount of inert substances is at least 10 percent by weight of the total resin plus filler mixture.

Fillers means inert substances dispersed throughout a resin, such as calcium carbonate, alumina trihydrate, hydrous aluminum silicate, mica, feldspar, wollastonite, silica, and talc. Materials that are not considered to be fillers are glass fibers or any type of reinforcement and microspheres.

Fluid impingement technology means a spray gun that produces an expanding non-misting curtain of liquid by the impingement of low-pressure uninterrupted liquid streams.

Food contact industry standard means a standard related to food contact application contained in Food and Drug Administration's regulations at 21 CFR 177.2420.

Gel coat application means a process where either clear production, pigmented production or tooling gel coat is applied.

High strength resins means polyester resins which have a casting tensile strength of 10,000 pounds per square inch or more and which are used for manufacturing products that have high strength requirements such as structural members and utility poles.

Injection molding means a closed molding process for fabricating composites in which composite materials are injected under pressure into a heated mold cavity that represents the exact shape of the product. The composite materials are cured in the heated mold cavity.

Manual resin application means an open molding process for fabricating composites in which composite materials are applied to the mold by pouring or by using hands and nonmechanical tools, such as brushes and rollers. Materials are rolled out or worked by using nonmechanical tools prior to curing. The use of pressure-fed rollers and flow coaters to apply resin is not considered manual resin application.

Material storage means an ancillary process which involves keeping HAP-containing materials, such as resins, gel coats, catalysts, monomers, and cleaners, in containers for any length of time. Containers may include bulk storage terminals, tanks, totes, vessels, and buckets.

Mechanical resin application means an open molding process for fabricating composites in which composite materials (except gel coat) are applied to the mold by using mechanical tools such as spray guns, pressure-fed rollers, and flow coaters. Materials are rolled out or worked by using nonmechanical tools prior to curing.

Mixing means the blending or agitation of any HAP-containing materials in vessels that are 5.00 gallons (18.9 liters) or larger. Mixing may involve the blending of resin, gel coat, filler, reinforcement, pigments, catalysts, monomers, and any other additives.

Model point value equations means algebraic expressions that were derived to estimate the quantity of HAP emitted based on parameters that can be regulated. Parameters that can be regulated include resin and gel coat HAP content. Model point value equations were derived for open molding and centrifugal casting processes. They are used to calculate point values that reflect the relative emission control status of a process. Model point value equations are not to be used to estimate actual emissions because not all parameters that are known to affect emissions are incorporated into the equations.

Mold means a cavity or matrix into or onto which the composite materials are placed and from which the product takes its form.

Neat gel coat plus means gel coat plus any organic HAP-containing materials that are added to the gel coat by the supplier or the facility, excluding catalysts and promoters. Neat gel coat plus does include any additions of styrene or methyl methacrylate monomer in any form, including in catalysts and promoters.

Neat resin plus means neat resin plus any organic HAP-containing materials that are added to the resin by the supplier or the facility. Neat resin plus does not include any added filler, reinforcements, catalysts, or promoters. Neat resin does include any additions of styrene or methyl methacrylate monomer in any form, including in catalysts and promoters.

Non-atomized mechanical application means the use of application tools other than brushes to apply resin and gel coat that do not create a fine liquid mist. Examples include flow coaters, pressure fed rollers, and fluid impingement technology spray guns.

Noncorrosion-resistant resin means any resin other than a corrosion-resistant resin or a tooling resin.

Noncorrosion-resistant product means any product other than a corrosion-resistant product or a mold.

Operation means a specific process typically found at a reinforced plastic composites facility. Examples of operations are noncorrosion-resistant manual resin application, corrosion-resistant mechanical resin application, pigmented gel coat application, mixing and storage.

Operation Group means a grouping of individual operations based primarily on mold type. Examples are open molding, closed molding, and centrifugal casting.

Open molding means a process for fabricating composites in a way that HAP-containing materials are exposed to the atmosphere. Open molding includes processes such as manual resin application, mechanical resin application, filament winding, and gel coat application.

Pigmented production gel coat means a pigmented quick-setting resin used to improve surface appearance and/or performance of composites. It can be used to form the surface layer of any composites other than those used for molds in tooling operations.

Point value means a relative measure of the use of emissions reductions techniques and their effectiveness. Model point value equations were developed for each open molding and centrifugal casting process to calculate point values, which have units of lbs of HAP emissions per ton of neat resin plus or neat gel coat plus used. Point values are calculated by using the appropriate model point value equation for a given process, multiplied by any applicable control factors. Control factors are used to incorporate emissions reductions achieved from add-on control devices.

Polymer casting means a process for fabricating composites in which composite materials are ejected from a casting machine or poured into an open, partially open, or closed mold and cured. After the composite materials are poured into the mold, they are not rolled out or worked prior to curing. The composite materials may or may not include reinforcements. Products produced by the polymer casting process include cultured marble products and polymer concrete.

Pultrusion means a continuous process for manufacturing composites that have a uniform cross-sectional shape. The process consists of pulling a fiber-reinforcing material through a resin impregnation chamber or bath and through a shaping die, where the resin is subsequently cured. There are several types of pultrusion equipment, such as open bath, resin injection, and direct die injection equipment.

Resin transfer molding means a process for manufacturing composites whereby catalyzed resin is transferred or injected into a closed mold in which fiberglass reinforcement has been placed.

Sheet molding compound (SMC) means a ready-to-mold putty-like molding compound processed into sheet form. The molding compound is sandwiched between a top and a bottom film, and it contains resins, catalysts, fillers, chemical thickeners, mold release agents, reinforcements, and other ingredients. Sheet molding compound can be used in compression molding to manufacture reinforced plastic composites products.

SMC manufacturing means a process which involves the preparation of SMC.

Tooling means mold production or repair.

Tooling gel coat means a gel coat that is used to form the surface layer of molds. Tooling gel coats generally have high heat distortion temperatures, low shrinkage, high barcol hardness, and high dimensional stability.

Tooling resin means a resin that is used to produce molds. Tooling resins generally have high heat distortion temperatures, low shrinkage, high barcol hardness, and high dimensional stability.

Uncontrolled oven emissions means those emissions emitted from the oven through closed vent systems to the atmosphere and not to a control device. These emissions do not include emissions that may escape into the workplace through the opening of panels or doors on the ovens or other similar fugitive emissions in the workplace.

Uncontrolled wet-out area emissions means any or all of the following: Emissions from wet-out areas that do not have any capture and control, emissions that escape from wet-out area enclosures, and emissions from wet-out areas that are captured by an enclosure but are vented to the atmosphere and not to an add-on control device.

Unfilled means that there has been no addition of fillers to a resin or that less than 10 percent of fillers by weight of the total resin plus filler mixture has been added.

Vapor suppressant means an additive, typically a wax, that migrates to the surface of the resin during curing and forms a barrier to seal in the styrene and reduce styrene emissions.

Vapor-suppressed resin means a resin containing a vapor suppressant added for the purpose of reducing styrene emissions during curing.

Tables to Subpart WWWW of Part 63

As required in §§ 63.5797, 63.5798(a)(1) and (b), and 63.5810(a)(1), to calculate model point values for specific open molding and centrifugal casting process streams you must use the equations in the following table:

Table 1 to Subpart WWWW of Part 63.—Model Equations to Calculate Point Values for Specific Open Molding and Centrifugal Casting Process Streams
If your operation type is a new or existing . . . | And you use . . . | With . . . | Use this Model Point Value (PV) Equation a b c . . .
1. Open molding operation | a. Manual resin application | i. Nonvapor-suppressed resin | PV = 0.028 × (%HAP)^2.275
|  | ii. Vapor-suppressed resin | PV = 0.028 × (%HAP)^2.275 × (1−(0.5419 × VSR test value))
|  | iii. Vacuum bagging/closed-mold curing with roll out | PV = 0.028 × (%HAP)^2.275 × (1−0.2133)
|  | iv. Vacuum bagging/closed-mold curing without roll-out | PV = 0.028 × (%HAP)^2.275 × (1−0.4554)
| b. Mechanical resin application | i. Nonvapor-suppressed resin and atomized application | PV = 0.028 × (%HAP)^2.425
|  | ii. Vapor-suppressed resin and atomised application | PV = 0.028 × (%HAP)^2.425 × (1−(0.4559 × VSR test value))
|  | iii. Vacuum bagging/closed-mold curing with roll-out and atomized application | PV = 0.028 × (%HAP)^2.425 × (1−0.1535)
|  | iv. Vacuum bagging/closed-mold curing without roll-out and atomized application | PV = 0.028 × (%HAP)^2.425 × (1−0.3261)
|  | v. Nonvapor-suppressed resin and nonatomized application | PV = 0.028 × (%HAP)^2.275
|  | vi. Vapor-suppressed resin and nonatomized application | PV = 0.028 × (%HAP)^2.275 × (1−(0.5419 × VSR test value))
|  | vii. Closed-mold curing with roll-out and non atomized application | PV = 0.028 × (%HAP)^2.275 × (1−0.2133)
|  | viii. Vacuum bagging/closed-mold curing without roll-out and nonatomized application | PV = 0.028 × (%HAP)^2.275 × (1−0.4554)
| c. Filament winding | i. Nonvapor-suppressed resin | PV = 1.675 × (%HAP)^1.225
|  | ii. Vapor-suppressed resin | PV = 1.675 × (%HAP)^1.225 × (1−(0.4693 × VSR test value))
| d. Gel coat application | Nonvapor-suppressed gel coat | PV = 0.890 × (%HAP)^1.675
2. Centrifugal casting operation | Centrifugal casting | Nonvapor-suppressed resin | PV = 11.16 × (%HAP)
ᵃ To obtain the model point value for an operation with an add-on control device multiply the PV above by the add-on control factor calculated using Equation 1 of § 63.5810. The model point values have limits of lbs of HAP per ton of resin or gel coat applied.
ᵇ Percent HAP means total weight percent of HAP in the resin or gel coat prior to the addition of fillers, catalyst, and promoters.
ᶜ VSR test value means the percent reduction in HAP emissions expressed as a decimal measured by the VSR test method.

As required in §§ 63.5800 and 63.5840 you must demonstrate compliance with the standards by the dates in the following table:

Table 2 to Subpart WWWW of Part 63.—Compliance Dates for New and Existing Reinforced Plastic Composites Facilities
If your facility is . . . | And . . . | Then you must comply by this date:
1. An existing source | Is a major source on or before the publication date of the final rule | i. [Date 3 years after the publication date of the final rule], or ii. You must accept and meet an enforceable HAP emission limit below the major source threshold prior to [date 3 years after the publication date of final rule].
2. An existing source that is an area source | Becomes a major source after the publication date of the final rule | 3 years after becoming a major source or [date 3 years after the publication date of the final rule], whichever is later.
3. A new source | Is a major source at startup | Upon startup or [publication date of the final rule], whichever is later.
4. A new source | Is an area source at startup and becomes a major source | Immediately upon becoming a major source.

As required in §§ 63.5805 (a) and (c), 63.5810(a) through (b), 63.5820(c), 63.5830, 63.5835, and 63.5900(a)(2), you must meet the appropriate emission limits in the following table:

Table 3 to Subpart WWWW of Part 63.—Emission Limits for Existing Small Business Sources Emitting Less Than 250 TPY of HAP, or Other Sources Emitting Less Than 100 TPY of HAP
If your operation type is . . . | And you use . . . | Your emission limit is ᵃ . . .
1. Open molding—corrosion-resistant (CR) ᵇ | a. Mechanical resin application | 190 lb/ton.
| b. Filament winding | 163 lb/ton.
| c. Manual resin application | 124 lb/ton.
2. Open molding—non-CR | a. Mechanical resin application-unfilled b. Mechanical resin application-filled c. Filament winding d. Manual resin application | 110 lb/ton. 144 lb/ton. 178 lb/ton. 83 lb/ton.
3. Open molding—tooling | a. Mechanical resin application b. Manual resin application | 256 lb/ton. 123 lb/ton.
4. Open molding—products that require class 1 fire and smoke ratings | a. Mechanical resin application | 575 lb/ton.
| b. Filament winding | 253 lb/ton.
| c. Manual resin application | 311 lb/ton.
5. Open molding—gel coat | a. Tooling gel coating b. White/off white pigmented gel coating c. All other pigmented gel coating d. Clear production gel coating | 394 lb/ton. 265 lb/ton. 377 lb/ton. 504 lb/ton.
6. Centrifugal casting—CR | N/A | 536 lb/ton.
7. Centrifugal casting—non-CR | N/A | 396 lb/ton.
8. Pultrusion | N/A | Reduce total HAP emissions by at least 60 weight percent.
9. Continuous lamination/casting | N/A | Reduce total HAP emissions by at least 58.5 weight percent or not exceed an emission limit of 15.7 lbs of HAP per ton of neat resin plus and neat gel coat plus.
ᵃ Emission limits for open molding and centrifugal casting expressed as lb/ton are point values calculated using the equations shown in Table 1 of this subpart. You must be at or below these values based on a 12-month rolling average.
ᵇ Corrosion-resistant applications also include high-strength products.

As required in § 63.5805 (a) through (d) you must meet the appropriate work practice standards in the following table:

Table 4 to Subpart WWWW of Part 63.—Work Practice Standards
For . . . | You must . . .
1. A new or existing closed molding operation using compression/injection molding | Uncover, unwrap or expose only one charge per mold cycle per compression/injection molding machine.
2. A new or existing cleaning operation | Not use cleaning solvents that contain HAP.
3. A new or existing materials storage operation | Keep containers that store HAP materials closed or covered except during the addition or removal of materials.
4. An existing pultrusion operation using a wet-area enclosure | Keep access panels, doors, and/or hatches closed whenever resin is in the bath, except that access panels, doors, and/or hatches may be open 30 minutes per 8-hour shift, or 45 minutes per 12-hour shift.
5. An existing SMC manufacturing operation | Close or cover the doctor box on each SMC manufacturing machine.
6. An existing SMC manufacturing operation | Fold or seal edges of SMC prior to storage and/or transport.
7. An existing SMC manufacturing operation | Use a nylon film or a film with an equal or lower permeability to styrene than nylon to enclose SMC.
8. A new or existing BMC manufacturing/mixing operation ᵃ | Use mixer covers with no visible gaps present in the mixer covers.
9. An existing BMC manufacturing/mixing | Not actively vent mixers to the atmosphere.
10. A new or existing BMC manufacturing/mixing operation ᵃ | Keep the mixer covers closed during mixing except when adding materials to the mixing vessels.
ᵃ Containers of 5 gallons or less may be open when active mixing is taking place, or during periods when they are in process (i.e., they are actively being used to apply resin). For polymer casting mixing operations, containers of 21 gallons or less may be open while active mixing is taking place.

As specified in § 63.5805 (b) and (d), as an alternative to the 95 percent HAP emission reduction requirement, you may meet the appropriate emission limits in the following table:

Table 5 to Subpart WWWW of Part 63.—Alternative Emission Limits for Open Molding and Centrifugal Casting Operations Where the Standard Is Based on a Percent Reduction Requirement
If your operation type is . . . | And you use . . . | Your emission limit is \a\ . . .
1. 0pen molding—corrosion-resistant (CR) | a. Mechanical resin application b. Filament winding c. Manual resin application | 10 lb/ton. 9 lb/ton. 7 lb/ton.
2. Open molding—non-CR | a. Mechanical resin application-unfilled b. Mechanical resin application-filled c. Filament winding d. Manual resin application | 8 lb/ton. 6 lb/ton. 9 lb/ton. 4 lb/ton.
3. Open molding—tooling | a. Mechanical resin application b. Manual resin application | 13 lb/ton. 7 lb/ton.
4. Open molding—products that require Class 1 Fire and Smoke Ratings | a. Mechanical resin application b. Filament winding c. Manual resin application | 29 lb/ton. 13 lb/ton. 16 lb/ton.
5. Open molding—gel coat | a. Tooling gel coating b. White/off white pigmented gel coating c. All other pigmented gel coating d. Clear production gel coating | 20 lb/ton. 14 lb/ton. 19 lb/ton. 26 lb/ton.
6. Centrifugal Casting—CR | N/A | 27 lb/ton.
7. Centrifugal Casting—Non-CR | N/A | 20 lb/ton.
ᵃ The emission limits are calculated using the equations shown in Table 1 of this subpart. You must be at or below these values based on a 12-month rolling average.
ᵇ Corrosion-resistant applications also include high-strength products.

As required in §§ 63.5810(a)(1), 63.5825(a), 63.5830(a), and 63.5870, you must conduct performance tests, performance evaluations, and design evaluation according to the requirements in the following table:

Table 6 to Subpart WWWW of Part 63.—Basic Requirements for Performance Tests, Performance Evaluations, and Design Evaluations for New and Existing Sources Using Add-On Control Devices
For . . . | You must . . . | Using . . . | According to the following requirements
1. Each enclosure used to collect and route HAP emissions to an add-on control device | a. Determine the capture efficiency of each enclosure used to capture HAP emissions to sent to an add-on control device | i. EPA methods 204 and 204B through E in Appendix M of 40 CFR part 51, or ii. An alternative test method that meets the data quality objectives and lower confidence limit approaches for alternative capture efficiency protocols and test methods contined in 40 CFR part 63 subpart KK, appendix A | (1) Enclosures that meet the requirements for a permanent total enclosure are assumed to have a capture efficiency of 100%. Enclosures that do not meet permanent total enclosure requirements must determine the capture efficiency by constructing a temporary total enclosure according to the requirements of EPA Method 204 and measuring the mass flow rates of the HAP in the exhaust streams going to the atmosphere and to the control device, or, (2) Use an alternative test method that meets the requirements of 40 CFR part 51, appendix M. Follow the requirements in 1.a.i (1) and (2) of this table.
2. Each control device used to comply with an percent reduction requirement, or a point value limit | Determine the control efficiency of each control device used to control HAP emissions | The appropriate test methods specified in 40 CFR part 63, subpart SS | Testing and evaluation requirements are contained in 40 CFR part 63, subpart SS.
3. Each control device used to comply with a emission factor limit for continuous lamination/continuous casting | a. Determine the control efficiency of each control device used to control HAP emissions, or determine the mass HAP emission rate at the control device outlet | The appropriate test methods specified in 40 CFR part 63 subpart SS | Testing and evaluation requirements are contained in 40 CFR part 63, subpart SS.

As required in § 63.5810(c), when selecting one resin point value for multiple operations you must use the values in the following table:

Table 7 to Subpart WWWW of Part 63.—Options Allowing Use of the Same Resin Across Different Operations That Use the Same Resin Type
If your facility has the following resin application operation . . . | The highest resin weight percent HAP content you can use for . . . | Is . . . | The point value assignd to all uses of this resin is . . .
1. Corrosion-resistant (CR) nonatomized mechanical | a. CR mechanical b. CR filament winding c. CR manual d. CR centrifugal casting | 48.3 48.3 48.3 48.3 | 190 190 190 190
2. CR centrifugal casting | a. CR filament winding b. CR manual c. CR centrifugal casting | 48 48 48 | 536 536 536
3. CR filament winding | a. CR filament winding b. CR manual | 42 42 | 163 163
4. Non-CR filament winding | a. Non-CR mechanical (filled or unfilled b. non-CR manual c. non-CR centrifugal casting | 45 45 45 | 178 178 178
5. Non-CR nonatomized filled mechanical | a. non-CR nonatomized unfilled mechanical b. non-CR manual c. non-CR centrifugal casting | 144 144 144 | 42.8 42.8 42.8
6. Non-CR nonatomized unfilled mechanical | a. non-CR manual b. non-CR centrifugal casting | 110 110 | 38 38
7. Non-CR centrifugal casting | a. non-CR manual b. non-CR atomized filled mechanical | 35.5 35.5 | 396 396
8. Non-CR atomized filled mechanical | a. non-CR manual | 33.9 | 144
9. Non-CR manual | a. Non-CR atomized unfilled mechanical | 33.6 | 83
10. Tooling nonatomized mechanical | a. tooling manual | 55.1 | 256
11. Tooling atomized mechanical | a. tooling manual | 43 | 256

As required in § 63.5860(b), you must demonstrate initial compliance with emission limits as specified in the following table:

Table 8 to Subpart WWWW of Part 63.—Initial Compliance With Emission Limits
For . . . | That must meet the following emission limit . . . | You have demonstrated initial compliance if . . .
1. Open molding and centrifugal casting operations | a. A point value emission limit shown in Table 3 or 5 of this subpart | i. You have met the appropriate point value for these operations as calculated using the procedures in § 63.5810 on a 12-month rolling average 1 year plus 30 days after the appropriate compliance date, or, ii. You demonstrate by using the appropriate point value model equations in Table 1 that all resins and gel coats considered individually meet the appropriate point value emission limit.
2. Open molding, centrifugal casting, continuous lamination/casting, SMC manufacturing mixing/BMC manufacturing operations | Reduce total HAP emissions by at least 95 percent by weight | Total HAP emissions, based on the results of the capture efficiency and destruction efficiency testing specified in Table 6 of this subpart, are reduced by at least 95 percent by weight.
3. Continuous lamination/casting operations | a. Reduce total HAP emissions by at least 58.5 weight percent or | Total HAP emissions, based on the results of the capture efficiency and destruction efficiency testing specified in Table 6 of this subpart and the calculation procedures specified in §§ 63.5865 through 63.5890, are reduced by at least 58.5 percent by weight.
| b. Not exceed an emission limit of 15.7 lbs. of HAP per ton of neat resin plus and neat gel coat plus 95 percent by weight | Total HAP emissions, based on the results of the capture efficiency and destruction efficiency testing specified in Table 6 of this subpart and the calculation procedures specified in §§ 63.5865 through 63.5890, do not exceed 15.7 lbs. of HAP per ton of neat resin plus and neat gel coat plus.
4. Continuous lamination/casting operations | a. Reduce total HAP emissions by at least 95 weight percent or | Total HAP emissions, based on the results of the capture efficiency and destruction efficiency testing specified in Table 6 of this subpart and the calculation procedures specified in §§ 63.5865 through 63.5890, are reduced by at least 95 percent by weight or,
| b. Not exceed an emission limit of 1.47 lbs. of HAP per ton of neat resin plus and neat gel coat plus 95 percent by weight | Total HAP emissions, based on the results of the capture efficiency and destruction efficiency testing specified in Table 5 and the calculation procedures specified in §§ 63.5865-63.5890, do not exceed 1.47 lbs. of HAP per ton of neat resin plus an neat gel coat plus.
5. Pultrusion operations | a. Reduce total HAP emissions by at least 60 percent by weight | i. Total HAP emissions, based on the results of the capture efficiency and add-on control device destruction efficiency testing specified in Table 6 of this subpart, are reduced by at least 60 percent by weight, or ii. As part of the notification of initial compliance status, the owner/operator submits a certified statement that all pultrusion lines not controlled with add-on control device are using direct die injection and/or wet-area enclosures that meet the criteria of § 63.5825.
6. Pultrusion operations | a. Reduce total HAP emissions by at least 95 percent by weight | i. Total HAP emissions, based on the results of the capture efficiency and add-on control device destruction efficiency testing specified in Table 6 of this subpart, are reduced by at least 95 percent by weight, or, ii. As part of the notification of initial compliance status, the owner/operator submits a certified statement that all pultrusion lines not controlled by an add-on control device are using direct die injection that meet the criteria of § 63.5825.

As required in § 63.5860(b), you must demonstrate initial compliance with work practice standards as specified in the following table:

Table 9 to Subpart WWWW of Part 63.—Initial Compliance With Work Practice Standards
For . . . | That must meet the following standard . . . | You have demonstrated initial compliance if . . .
1. A new or existing closed molding operation using compression/injection molding | Uncover, unwrap or expose only one charge per mold cycle per compression/injection molding machine | The owner or operator submits a certified statement in the notice of compliance status that only one charge is uncovered, unwrapped or exposed per mold cycle per compression/injection molding machine.
2. An existing SMC manufacturing operation | Close or cover the doctor box on each SMC manufacturing machine | The onwner or operator submits a certified statement in the notice of compliance status that the doctor box on each SMC manufacturing machine is closed or covered.
3. An existing SMC manufacturing operation | Fold edges of SMC prior to storage and/or transport | The owner or operator submits a certified statement in the notice of compliance status that the edges of SMC are folded prior to storage and/or transport.
4. An existing SMC manufacturing operation | Use nylon film or a film with an equal or lower permeability to styrene than nylon to enclose SMC | The owner or operator submits a certified statement in the notice of compliance status that a nylon film or film with an equal or lower permeability to styrene than nylon is used to enclose SMC.
5. A new or existing BMC manufacturing/mixing operation | Use mixer covers with no visible gaps present in the mixer covers | The owner or operator submits a certified statement in the notice of compliance status that each mixer is equipped with a cover that does not contain any visible gaps.
6. An existing BMC manufacturing/mixing operation | Keep the mixer covers closed during mixing except when adding materials to the mixers | The owner or operator submits a certified statement in the notice of compliance status that mixer covers are closed during mixing except when adding materials to the mixers.
7. An existing BMC manufacturing/mixing | Not actively vent mixers to the atmosphere | The owner or operator submits a certified statement in the notice of compliance status that mixers are not actively vented to the atmosphere.

As required in § 63.5865(a), in order to comply with a percent reduction limit for continuous lamination lines and continuous casting lines you must determine the data in the following table:

Table 10 to Subpart WWWW of Part 63.—Data Requirements for New and Existing Continuous Lamination Lines and Continuous Casting Lines Complying with a Percent Reduction Limit on a Per Line Basis
For each line where the wet-out area . . . | And the oven . . . | You must determine . . .
1. Has an enclosure that is not a PTE and the captured emissions are controlled by an add-on control device | a. Is uncontrolled | i. Annual uncontrolled wet-out area emissions; ii. Annual controlled wet-out area emissions; iii. Annual uncontrolled oven emissions; iv. The capture efficiency of the wet-out area enclosure; v. The destruction efficiency of the add-on control device; and vi. The amount of neat resin plus and neat gel coat plus applied.
2. Has an enclosure that is a PTE and the captured emissions are controlled by an add-on control device | a. Is uncontrolled | i. Annual uncontrolled wet-out area emissions; ii. Annual controlled wet-out area emissions; iii. Annual uncontrolled oven emissions; iv. That the wet-out area enclosure meets the requirements of Method 204 for a PTE; v. The destruction efficiency of the add-on control device; and vi. The amount of neat resin plus and neat gel coat plus applied.
3. Is uncontrolled | a. Is controlled by an add-on control device | i. Annual uncontrolled wet-out area emissions; ii. Annual uncontrolled oven emissions; iii. Annual controlled oven emissions; iv. The capture efficiency of the oven; v. The destruction efficiency of the add-on control device; and vi. The amount of neat resin plus and neat gel coat plus applied.
4. Has an enclosure that is not a PTE and the captured emissions are controlled by an add-on control device | a. Is controlled by an add-on control device | i. Annual uncontrolled wet-out area emissions; ii. Annual controlled wet-out area emissions; iii. Annual uncontrolled oven emissions; iv. Annual controlled oven emissions; v. The capture efficiency of the wet-out area enclosure; vi. Inlet emissions to the add-on control device; vii. Outlet emissions from the add-on control device; and viii. The amount of neat resin plus and neat gel coat plus applied
5. Has an enclosure that is a PTE and the captured emissions are controlled by an add-on control device | a. Is controlled by an add-on control device | i. That the wet-out area enclosure meets the requirements of Method 204 for a PTE; ii. The capture efficiency of the oven; and iii. The destruction efficiency of the add-on control device.

As required in § 63.5865, in order to comply with a percent reduction limit or a lbs/ton limit on an averaging basis for continuous lamination lines and continuous casting lines you must determine the data in the following table:

Table 11 to Subpart WWWW of Part 63.—Data Requirements for New and Existing Continuous Lamination and Continuous Casting Lines Complying With a Percent Reduction Limit or a Lbs/Ton Limit on an Averaging Basis
For each . . . | That . . . | You must determine
1. Wet-out area | Is uncontrolled | Annual uncontrolled wet-out area emissions.
2. Wet-out area | a. Has an enclosure that is not a PTE | i. The capture efficiency of the enclosure; and ii. Annual emissions that escape the enclosure.
3. Wet-out area | Has an enclosure that is a PTE | That the enclosure meets the requirements of Method 204 for a PTE.
4. Oven | Is uncontrolled | Annual uncontrolled oven emissions.
5. Line | a. Is controlled or uncontrolled | i. The amount of neat resin plus applied; and ii. The amount of neat gel coat plus applied.
6. Add-on control device | N/A | Total annual inlet emissions; and total annual on outlet emissions.

As required in § 63.5865(b), in order to comply with a lbs/ton emission limit for continuous lamination lines and continuous casting lines you must determine the data in the following table:

Table 12 to Subpart WWWW of Part 63.—Data Requirements for New and Existing Continuous Lamination Lines and Continuous Casting Lines Complying With a Lbs/Ton on a Per Line Basis
For each line where the wet-out area . . . | And the oven . . . | You must determine . . .
1. Is uncontrolled | a. Is uncontrolled | i. Annual uncontrolled wet-out area emissions; ii. Annual uncontrolled oven emissions; and iii. Annual neat resin plus and neat gel coat plus applied.
2. Has an enclosure that is not a PTE, and the captured emissions are controlled by an add-on control device | a. Is uncontrolled | i. Annual uncontrolled wet-out area emissions; ii. Annual controlled wet-out area emissions; iii. Annual uncontrolled oven emissions; iv. The capture efficiency of the wet-out area controlled enclosure; v. The destruction efficiency of the add-on control device; and vi. The amount of neat resin plus and neat gel coat plus applied.
3. Has an enclosure that is a PTE, and the captured emissions are controlled by an add-on control device | a. Is uncontrolled | i. Annual uncontrolled wet-out area emissions; ii. Annual controlled wet-out area emissions; iii. Annual uncontrolled oven emissions; iv. That the wet-out area enclosure meets the requirements of Method 204 for a PTE; v. The destruction efficiency of the add-on control device; and vi. The amount of neat resin plus and neat gel coat plus applied.
4. Is uncontrolled | a. Is controlled by an add-on control device | i. Annual uncontrolled wet-out area emissions; ii. Annual uncontrolled oven emissions; iii. Annual controlled oven emissions; iv. The capture efficiency of the oven; v. The destruction efficiency of the add-on control device; and vi. The amount of neat resin plus and neat gel coat plus applied.
5. Has an enclosure that is not a PTE and the captured emissions are controlled by an add-on control device | a. Is controlled by an add-on control device | i. Annual uncontrolled wet-out area emissions; ii. Annual controlled wet-out area emissions; iii. Annual uncontrolled oven emissions; iv. Annual controlled oven emissions; v. The capture efficiency of the wet-out area control enclosure; vi. The capture efficiency of the oven; vii. The destruction efficiency of the add-on control device; and viii. The amount of neat resin plus and neat gel coat plus applied.
6. Has an enclosure that is a PTE, and the captured emissions are controlled by an add-on control device | a. Is controlled by an add-on control device | i. That the wet-out area enclosure meets the requirements of Method 204 for a PTE; ii. The capture efficiency of the oven; iii. Inlet emissions to the add-on control are device; and iv. Outlet emissions from the add-on control control device.

As required in § 63.5905, you must determine the applicable notifications and submit them by the dates shown in the following table:

Table 13 to Subpart WWWW of Part 63.—Applicability and Timing of Notifications
If your facility . . . | You must submit . . . | By this date . . .
1. Is an existing source subject to this regulation | An Initial Notification containing the information specified in § 63.9(b)(2) | No later than the dates specified in § 63.9(b)(2).
2. Is a new source subject to this regulation | The notifications specified in § 63.9(b)(3) to (5) | No later than the dates specified in § 63.9(b)(4) and (5).
3. Qualifies for a compliance extension as specified in § 63.9(c) of subpart A | A request for a compliance extension as specified in § 63.9(c) | No later than the dates specified in § 63.9(i).
4. Is complying with model point value averaging provisions | A Notification of Compliance Status as specified in § 63.9(h) | No later than 1 year plus 30 days after your facility's compliance date.
5. Is complying with HAP content limits, application equipment requirements, or emission limit other than model point value averaging | A Notification of Compliance Status as specified in § 63.9(h) | No later than 30 calendar days after facility's compliance date.
6. Is complying by using an add = on control device | a. A notification of intent to conduct a performance test as specified in § 63.9(e) | No later than the date specified in § 63.9(e).
| b. A notification of the date for the CMS performance evaluation as specified in § 63.9(g) | The date of submission of notification of intent to conduct a performance test.
| c. A Notification of Compliance Status as specified in § 63.9(h) | No later than 60 calendar days after the completion of the add-on control device performance test and CMS performance evaluation.

As required in § 63.5910(a) through (b) and (f) through (g), you must submit reports on the schedule shown in the following table:

Table 14 to Subpart WWWW of Part 63.—Requirements for Reports
You must submit a(n) | The report must contain . . . | You must submit the report . . .
1. Compliance report | a. A statement that there were no deviations during that reporting period if there were no deviations from any emission limitations (emission limit, operating limit, opacity limit, and visible emission limit) that apply to you and there were no deviations from the requirements for work practice standards in Table 4 of this subpart that apply to you. If there were no periods during which the CMS, including CEMS, and operating parameter monitoring systems, was out of control as specified in § 63.8(c)(7), the report must also contain a statement that there were no periods during which the CMS was out of control during the reporting period | Semiannually according to the requirements in § 63.5910(b).
| b. The information in § 63.5910(d) if you have a deviation from any emission the limitation (emission limit, operating limit, or work practice standard) during the reporting period. If there were periods during which the CMS, including CEMS, and operating parameter monitoring systems, was out of control, as specified in § 63.8(c)(7), the report must contain the information in § 63.5910(e) | Semiannually according to the requirements in § 63.5910(b).
| c. The information in § 63.10(d)(5)(i). If you had a startup, shutdown or malfunction during the reporting period, and you took actions consistent with your startup, shutdown, and malfunction plan | Semiannually according to the requirements in § 63.5910(b).
2. An immediate startup, shutdown, and malfunction report if you had a startup, shutdown, or malfunction during the reporting period that is not consistent with your startup, shutdown, and malfunction plan | a. Actions taken for the event. | By fax or telephone within 2 working days after starting actions inconsistent with the plan.
| b. The information in § 63.10(d)(5)(ii). | By letter within 7 working days after the end of the event unless you have made alternative arrangements with the permitting authority. (§ 63.10(d)(5)(ii)).

As specified in § 63.5925, the parts of the General Provisions which apply to you are shown in the following table:

Table 15 to Subpart WWWW of Part 63.—Applicability of General Provisions (Subpart A) to Subpart WWWW of Part 63
The general provisions reference . . . | That addresses . . . | And applies to subpart WWWW of Part 63 . . . | Subject to the following additional information . . .
§ 63.1(a)(1) | General applicability of the general provisions | Yes | Additional terms defined in subpart WWWW of Part 63; when overlap between subparts A and WWWW of Part 63 of this part, subpart WWWW of Part 63 takes precedence.
§ 63.1(a)(2) through (4) | General applicability of the general provisions | Yes.
§ 63.1(a)(5) | Reserved | No.
§ 63.1(a)(6) through (7) | General applicability of the general provisions | Yes.
§ 63.1(a)(8) | General applicability of the general provisions | Yes.
§ 63.1(a)(9) | Reserved | No.
§ 63.1(a)(10) through (14) | General applicability of the general provisions | Yes.
§ 63.1(b)(1) | Initial applicability determination | Yes | Subpart WWWW of Part 63 clarifies the applicability in §§ 63.5780 and 63.5785.
§ 63.1(b)(2) | Title V operating permit requirement | Yes | All major affected sources are required to obtain a title V permit.
§ 63.1(b)(3) | Record of the applicability determination | Yes.
§ 63.1(c)(1) | Applicability of this part after a relevant standard has been set under this part | Yes | Subpart WWWW of Part 63 clarifies the applicability of each paragraph of subpart A to sources subject to subpart WWWW of Part 63.
§ 63.1(c)(2) | Title V operating permit requirement | Yes | All major affected sources are required to obtain a title V operating permit. Area sources are not subject to subpart WWWW of Part 63.
§ 63.1(c)(3) | Reserved | No.
§ 63.1(c)(4) | Requirements for an existing source that obtains an extension of compliance | Yes.
§ 63.1(c)(5) | Notification requirements for an area source that increases HAP emissions to major source levels | Yes.
§ 63.1(d) | Reserved | No.
§ 63.1(e) | Applicability of permit program before a relevant standard has been set under this part | Yes.
§ 63.2 | Definitions | Yes | Subpart WWWW of Part 63 defines terms in § 63.5935. When overlap between subparts A and WWWW of Part 63 occurs, you must comply with the subpart WWWW of Part 63 definitions, which take precedence over the subpart A definitions.
§ 63.3 | Units and abbreviations | Yes. | Other units and abbreviations used in subpart WWWW of Part 63 are defined in subpart WWWW of Part 63.
§ 63.4 | Prohibited activities and circumvention | Yes | § 63.4(a)(4) is reserved and does not apply.
§ 63.5(a)(1) through (2) | Applicability of construction and reconstruction | Yes | Existing facilities do not become reconstructed under subpart WWWW of Part 63.
§ 63.5(b)(1) | Relevant standards for new sources upon construction | Yes | Existing facilities do not become reconstructed under subpart WWWW of Part 63.
§ 63.5(b)(2) | Reserved | No.
§ 63.5(b)(3) | New construction/reconstructed | Yes | Existing facilities do not become reconstructed under subpart WWWW of Part 63.
§ 63.5(b)(4) | Construction/reconstruction notification | Yes | Existing facilities do not become reconstructed under subpart WWWW of Part 63.
§ 63.5(b)(5) | Construction/reconstruction compliance | Yes | Existing facilities do not become reconstructed under subpart WWWW of Part 63.
§ 63.5(b)(6) | Equipment addition or process change | Yes | Existing facilities do not become reconstructed under subpart WWWW of Part 63.
§ 63.5(c) | Reserved | No.
§ 63.5(d)(1) | General application for approval of construction or reconstruction | Yes | Existing facilities do not become reconstructed under subpart WWWW of Part 63.
§ 63.5(d)(2) | Application for approval of construction | Yes.
§ 63.5(d)(3) | Application for approval of reconstruction | No.
§ 63.5(d)(4) | Additional information | Yes.
§ 63.5(e)(1) through (5) | Approval of construction or reconstruction | Yes.
§ 63.5(f)(1) through (2) | Approval of construction or reconstruction based on prior State preconstruction review | Yes.
§ 63.6(a)(1) | Applicability of compliance with standards and maintenance requirements | Yes.
§ 63.6(a)(2) | Applicability of area sources that increase emissions to become major sources | Yes.
§ 63.6(b)(1) through (2) | Compliance dates for new and reconstructed sources | Yes | Subpart WWWW of Part 63 clarifies compliance dates in § 63.5800.
§ 63.6(b)(3) through (5) | Compliance dates for area sources that become major sources | Yes | Subpart WWWW of Part 63 clarifies compliance dates in § 63.5800.
§ 63.6(b)(6) | Reserved | No.
§ 63.6(b)(7) | Compliance dates for new sources resulting from new unaffected area sources becoming subject to standards | Yes | Subpart WWWW of Part 63 clarifies compliance dates in § 63.5800.
§ 63.6(c)(1) through (2) | Compliance dates for existing sources | Yes | Subpart WWWW of Part 63 clarifies compliance dates in § 63.5800.
§ 63.6(c)(3) through (4) | Reserved | No.
§ 63.6(c)(5) | Compliance dates for existing area sources that become major | Yes | Subpart WWWW of Part 63 clarifies compliance dates in § 63.5800.
§ 63.6(d) | Reserved | No.
§ 63.6(e)(1) through (2) | Operation & maintenance requirements | Yes.
§ 63.6(e)(3) | Startup, shutdown, and malfunction plan and recordkeeping | Yes | Subpart WWWW of Part 63 requires a startup, shutdown, and malfunction plan only for sources using add-on controls.
§ 63.6(f)(1) | Compliance except during periods of startup, shutdown, and malfunction | No | Subpart WWWW of Part 63 requires compliance during periods of startup, shutdown, and malfunctions, except startup, shutdown, and malfunctions for sources using add-on controls.
§ 63.6(f)(23) | Methods for determining compliance | Yes.
§ 63.6(g)(1) through (3) | Alternative standard | Yes.
§ 63.6(h) | Opacity and visible emission Standards | No | Subpart WWWW of Part 63 does not contain opacity or visible emission standards.
§ 63.6(i)(1) through (14) | Compliance extensions | Yes.
§ 63.6(i)(15) | Reserved | No.
§ 63.6(i)(16) | Compliance extensions | Yes.
§ 63.6(j) | Presidential compliance exemption | Yes.
§ 63.7(a)(1) | Applicability of performance testing requirements | Yes.
§ 63.7(a)(2) | Performance test dates | No | Subpart WWWW of Part 63 initial compliance requirements are in § 63.5840.
§ 63.7(a)(3) | Section 114 authority | Yes.
§ 63.7(b)(1) | Notification of performance test | Yes.
§ 63.7(b)(2) | Notification of rescheduled performance test | Yes.
§ 63.7(c) | Quality assurance program, including test plan | Yes | Except that the test plan must be submitted with the notification of the performance test.
§ 63.7(d) | Performance testing facilities | Yes.
§ 63.7(e)(1) through (4) | Conditions for conducting performance tests | Yes | Performance test requirements are contained in § 63.5850. Additional requirements for conducting performance tests for continuous lamination/casting are included in § 63.5865.
§ 63.7(f) | Use of alternative test method | Yes.
§ 63.7(g) | Performance test data analysis, recordkeeping, and reporting | Yes.
§ 63.7(h) | Waiver of performance tests | Yes.
§ 63.8(a)(1) through (2) | Applicability of monitoring requirements | Yes.
§ 63.8(a)(3) | Reserved | No.
§ 63.8(a)(4) | Monitoring requirements when using flares | Yes.
§ 63.8(b)(1) | Conduct of monitoring exceptions | Yes.
§ 63.8(b)(2) through (3) | Multiple effluents and multiple monitoring systems | Yes.
§ 63.8(c)(1)(i) | Ensure immediate repair or replacement of CMS parts to correct “routine” or otherwise predictable malfunctions | Yes | This section applies if you elect to use a CMS to demonstrate continuous compliance with an emission limit.
§ 63.8(c)(1)(ii) | Report CMS malfunctions that are not addressed by the startup, shutdown, and malfunction plan | Yes | This section applies if you elect to use a CMS to demonstrate continuous compliance with an emission limit.
§ 63.8(c)(1)(iii) | Compliance with CMS operation and maintenance requirements | Yes | This section applies if you elect to use a CMS to demonstrate continuous compliance with an emission limit.
§ 63.8(c)(2) through (3) | Monitoring system installation | Yes | This section applies if you elect to use a CMS to demonstrate continuous compliance with an emission limit.
§ 63.8(c)(4) | CMS requirements | Yes | This section applies if you elect to use a CMS to demonstrate continuous compliance with an emission limit.
§ 63.8(c)(5) | COMS minimum procedures | No | Subpart WWWW of Part 63 does not contain opacity standards.
§ 63.8(c)(6) through (8) | CMS calibration and periods CMS is out of control | Yes | This section applies if you elect to use a CMS to demonstrate continuous compliance with an emission limit.
§ 63.8(d) | CMS quality control program, including current test plan and all previous versions | Yes | This section applies if you elect to use a CMS to demonstrate continuous compliance with an emission limit.
§ 63.8(e)(1) | Performance evaluation of CMS | Yes | This section applies if you elect to use a CMS to demonstrate continuous compliance with an emission limit.
§ 63.8(e)(2) | Notification of performance evaluation | Yes | This section applies if you elect to use a CMS to demonstrate continuous compliance with an emission limit.
§ 63.8(e)(3) through (4) | CMS requirements/alternatives | Yes | This section applies if you elect to use a CMS to demonstrate continuous compliance with an emission limit.
§ 63.8(e)(5)(i) | Reporting performance evaluation results | Yes | This section applies if you elect to use a CMS to demonstrate continuous compliance with an emission limit.
§ 63.8(e)(5)(ii) | Results of COMS performance evaluation | No | Subpart WWWW of Part 63 does not contain opacity standards.
§ 63.8(f)(1) through (3) | Use of an alternative monitoring method | Yes.
§ 63.8(f)(4) | Request to use an alternative monitoring method | Yes.
§ 63.8(f)(5) | Approval of request to use an alternative monitoring method | Yes.
§ 63.8(f)(6) | Request for alternative to relative accuracy test and associated records | Yes | This section applies if you elect to use a CMS to demonstrate continuous compliance with an emission limit.
§ 63.8(g)(1) through (5) | Data reduction | Yes.
§ 63.9(a)(1) through (4) | Notification requirements and general information | Yes.
§ 63.9(b)(1) | Initial notification applicability | Yes.
§ 63.9(b)(2) | Notification for affected source with initial startup before effective date of standard | Yes.
§ 63.9(b)(3) | Notification that subject to the rule for new or reconstructed affected source with initial startup after effective date and for which an application for approval of construction or reconstruction is not required | Yes.
§ 63.9(b)(4)(i) through (iii) | Notification for a new or reconstructed major affected source with initial startup after effective date for which an application for approval of construction or reconstruction is required | Yes.
§ 63.9(b)(4)(iv) | Reserved | No.
§ 63.9(b)(4)(v) | Notification for a new or reconstructed major affected source with initial startup after effective date for which an application for approval of construction or reconstruction is required | Yes | Existing facilities do not become reconstructed under subpart WWWW of Part 63.
§ 63.9(b)(5) | After effective date of standard, notification of intended construction or reconstruction | Yes. | Existing facilities do not become reconstructed under subpart WWWW of Part 63.
§ 63.9(c) | Request for compliance extension | Yes.
§ 63.9(d) | Notification of special compliance requirements for new source | Yes.
§ 63.9(e) | Notification of performance test | Yes.
§ 63.9(f) | Notification of opacity and visible emissions observations | No | Subpart WWWW of Part 63 does not contain opacity or visible emission standards.
§ 63.9(g)(1) | Additional notification requirements for sources using CMS | Yes | This section applies if you elect to use a CMS to demonstrate continuous compliance with an emission limit.
§ 63.9(g)(2) | Notification of compliance with opacity emission standard | No | Subpart WWWW of Part 63 does not contain opacity emission standards.
§ 63.9(g)(3) | Notification that criterion to continue use of alternative to relative accuracy testing has been exceeded | Yes | This section applies if you elect use a CMS to demonstrate continuous compliance with an emission limit.
§ 63.9(h)(1) through (3) | Notification of compliance status | Yes.
§ 63.9(h)(4) | Reserved | No.
§ 63.9(h)(5) through (6) | Notification of compliance status | Yes.
§ 63.9(i) | Adjustment of submittal deadlines | Yes.
§ 63.9(j) | Change in information provided | Yes.
§ 63.10(a)(1) through (7) | Applicability of recordkeeping and reporting | Yes.
§ 63.10(b)(1) | Records retention | Yes.
§ 63.10(b)(2)(i) through (v) | Records related to startup, shutdown, and malfunction | Yes | Only applies to facilities that use an add-on control device.
§ 63.10(b)(2)(vi) through (xi) | CMS records | Yes | This section applies if you elect to use a CMS to demonstrate continuous compliance with an emission limit.
§ 63.10(b)(2)(xii) | Record of waiver of recordkeeping and reporting | Yes.
§ 63.10(b)(2)(xiii) | Record for alternative to the relative accuracy test | Yes.
§ 63.10(b)(2)(xiv) | Records supporting initial notification and notification of compliance status | Yes.
§ 63.10(b)(3) | Records for applicability determinations | Yes.
§ 63.10(c)(1) | CMS records | Yes | This section applies if you elect to use a CMS to demonstrate continuous compliance with an emission limit.
§ 63.10(c)(2) through (4) | Reserved | No.
§ 63.10(c)(5) through (8) | CMS records | Yes | This section applies if you elect to use a CMS to demonstrate continuous compliance with an emission limit.
§ 63.10(c)(9) | Reserved | No.
§ 63.10(d)(1) | General reporting requirements | Yes.
§ 63.10(d)(2) | Report of performance test results | Yes.
§ 63.10(d)(3) | Reporting results of opacity or visible emission observations | No | Subpart WWWW of Part 63 does not contain opacity or visible emission standards.
§ 63.10(d)(4) | Progress reports as part of extension of compliance | Yes.
§ 63.10(d)(5) | Startup, shutdown, and malfunction reports | Yes | Only applies if you use an add-on control device.
§ 63.10(e)(1) through (3) | Additional reporting requirements for CMS | Yes | This section applies if you have an add-on control device and elect to use a CEM to demonstrate continuous compliance with an emission limit.
§ 63.10(e)(4) | Reporting COMS data | No | Subpart WWWW of Part 63 does not data contain opacity standards.
§ 63.10(f) | Waiver for recordkeeping or reporting | Yes.
§ 63.11 | Control device requirements | Yes | Only applies if you elect to use a flare as a control device.
§ 63.12 | State authority and delegations | Yes.
§ 63.13 | Addresses of State air pollution control agencies and EPA Regional Offices | Yes.
§ 63.14 | Incorporations by reference | Yes.
§ 63.15 | Availability of information and confidentiality | Yes.

[FR Doc. 01-17564 Filed 8-1-01; 8:45 am]

BILLING CODE 6560-50-P